OFFICE OF PERSONNEL MANAGEMENT

Excepted Service; Consolidated Listing of Schedules; A, B, and C Exceptions

AGENCY: Office of Personnel Management.

ACTION: Notice.

SUMMARY: This gives a consolidated notice of all positions excepted under Schedules A, B, and C as of June 30, 2005, as required by Civil Service Rule VI, Exceptions from the Competitive Service.

FOR FURTHER INFORMATION CONTACT: Quasette Crowner, (202) 606-8046.

SUPPLEMENTARY INFORMATION: Civil Service Rule VI (5 CFR 6.1) requires the Office of Personnel Management (OPM) to publish notice of all exceptions granted under Schedules A, B, and C. Title 5, Code of Federal Regulations, § 213.103(c), further requires that a consolidated listing, current as of June 30 of each year, be published annually as a notice in the Federal Register. That notice follows. OPM maintains continuing information on the status of all Schedule A, B, and C excepted appointing authorities. Interested parties needing information about specific authorities during the year may obtain information by writing to the Division for Strategic Human Resources Policy, Office of Personnel Management, 1900 E Street, NW., Room 6500, Washington, DC 20415, or by calling (202) 606-8046.

The following exceptions were current on June 30, 2005:

Schedule A

Section 213.3102 Entire Executive Civil Service

(a) Positions of Chaplain and Chaplain's Assistant.

(b) (Reserved).

(c) Positions to which appointments are made by the President without confirmation by the Senate.

(d) Attorneys.

(e) Law clerk trainee positions. Appointments under this paragraph shall be confined to graduates of recognized law schools or persons having equivalent experience and shall be for periods not to exceed 14 months pending admission to the bar. No person shall be given more than one appointment under this paragraph. However, an appointment that was initially made for less than 14 months may be extended for not to exceed 14 months in total duration.

(f) (Reserved).

(g) (Reserved).

(h) (Reserved).

(i) Temporary and less-than-full time positions for which examining is impracticable. These are:

(1) Positions in remote/isolated locations where examination is impracticable. A remote/isolated location is outside of the local commuting area of a population center from which an employee can reasonably be expected to travel on short notice under adverse weather and/or road conditions which are normal for the area. For this purpose, a population center is a town with housing, schools, health care, stores and other businesses in which the servicing examining office can schedule tests and/or reasonably expect to attract applicants. An individual appointed under this authority may not be employed in the same agency under a combination of this and any other appointment to positions involving related duties and requiring the same qualifications for more than 1,040 working hours in a service year. Temporary appointments under this authority may be extended in 1-year increments, with no limit on the number of such extensions, as an exception to the service limits in § 213.104.

(2) Positions for which a critical hiring needs exists. This includes both short-term positions and continuing positions that an agency must fill on an interim basis pending completion of competitive examining, clearances, or other procedures required for a longer appointment. Appointments under this authority may not exceed 30 days and may be extended up to an additional 30 days if continued employment is essential to the agency's operations. The appointments may not be used to extend the service limit of any other appointing authority. An agency may not employ the same individual under this authority for more than 60 days in any 12-month period.

(3) Other positions for which OPM determines that examining is impracticable.

(j) Positions filled by current or former Federal employees eligible for placement under special statutory provisions. Appointments under this authority are subject to the following conditions:

(1) Eligible employees.

(i) Persons previously employed as National Guard Technicians under 32 U.S.C. 709(a) who are entitled to placement under § 353.110 of this chapter, or who are applying for or receiving an annuity under the provisions of 5 U.S.C. 8337(h) or 5 U.S.C. 8456 by reason of a disability that disqualifies them from membership in the National Guard or from holding the military grade required as a condition of their National Guard employment;

(ii) Executive branch employees (other than employees of intelligence agencies) who are entitled to placement under § 353.110, but who are not eligible for reinstatement or noncompetitive appointment under the provisions of part 315 of this chapter.

(iii) Legislative and judicial branch employees and employees of the intelligence agencies defined in 5 U.S.C. 2302(a)(2)(C)(ii) who are entitled to placement assistance under § 353.110.

(2) Employees excluded. Employees who were last employed in Schedule C or under a statutory authority that specified the employee served at the discretion, will, or pleasure of the agency are not eligible for appointment under this authority.

(3) Position to which appointed. Employees who are entitled to placement under § 353.110 will be appointed to a position that OPM determines is equivalent in pay and grade to the one the individual left, unless the individual elects to be placed in a position of lower grade or pay. National Guard Technicians whose eligibility is based upon a disability may be appointed at the same grade, or equivalent, as their National Guard Technician position or at any lower grade for which they are available.

(4) Conditions of appointment.

(i) Individuals whose placement eligibility is based on an appointment without time limit will receive appointments without time limit under this authority. These appointees may be reassigned, promoted, or demoted to any position within the same agency for which they qualify.

(ii) Individuals who are eligible for placement under § 353.110 based on a time-limited appointment will be given appointments for a time period equal to the unexpired portion of their previous appointment.

(k) Positions without compensation provided appointments thereto meet the requirements of applicable laws relating to compensation.

(l) Positions requiring the temporary or intermittent employment of professional, scientific, and technical experts for consultation purposes.

(m) (Reserved).

(n) Any local physician, surgeon, or dentist employed under contract or on a part-time or fee basis.

(o) Positions of a scientific, professional or analytical nature when filled by bona fide members of the faculty of an accredited college or university who have special qualifications for the positions to which appointed. Employment under this provision shall not exceed 130 working days a year.

(p)-(q) (Reserved).

(r) Positions established in support of fellowship and similar programs that are filled from limited applicant pools and operate under specific criteria developed by the employing agency and/or a non-Federal organization. These programs may include: internship or fellowship programs that provide developmental or professional experiences to individuals who have completed their formal education; training and associate ship programs designed to increase the pool of qualified candidates in a particular occupational specialty; professional/industry exchange programs that provide for a cross-fertilization between the agency and the private sector to foster mutual understanding, an exchange of ideas, or to bring experienced practitioners to the agency; residency programs through which participants gain experience in a Federal clinical environment; and programs that require a period of Government service in exchange for educational, financial or other assistance. Appointment under this authority may not exceed 4 years.

(s) Positions with compensation fixed under 5 U.S.C. 5351-5356 when filled by student-employees assigned or attached to Government hospitals, clinics or medical or dental laboratories. Employment under this authority may not exceed 4 years.

(t) Positions when filled by mentally retarded persons who have been certified by State vocational rehabilitation agencies as likely to succeed. Upon completion of 2 years of satisfactory service under this authority, the employee may qualify for conversion to competitive status under the provisions of Executive Order 12125 and implementing instruction issued by the Office.

(u) Positions when filled by severely physically handicapped persons who:

(1) Under a temporary appointment have demonstrated their ability to perform the duties satisfactorily; or

(2) Have been certified by counselors of State vocational rehabilitation agencies or the Veterans Administration as likely to succeed in the performance of the duties. Upon completion of 2 years of satisfactory service under this authority, the employee may qualify for conversion to competitive status under the provisions of Executive Order 12125 and implementing regulations issued by OPM.

(v)-(w) (Reserved).

(x) Positions for which a local recruiting shortage exists when filled by inmates of Federal, District of Columbia, and State (including the Commonwealth of Puerto Rico, the Virgin Islands, Guam, American Samoa, and the Trust Territory of the Pacific Islands) penal and correctional institutions under work-release programs authorized by the Prisoner Rehabilitation Act of 1965, the District of Columbia Work Release Act, or under work-release programs authorized by the States. Initial appointments under this authority may not exceed 1 year. An initial appointment may be extended for one or more periods not to exceed 1 additional year each upon a finding that the inmate is still in a work-release status and that a local recruiting shortage still exists. No person may serve under this authority longer than 1 year beyond the date of that person's release from custody.

(y) (Reserved).

(z) Not to exceed 30 positions of assistants to top-level Federal officials when filled by persons designated by the President as White House Fellows.

(aa) Scientific and professional research associate positions at GS-11 and above when filled on a temporary basis by persons having a doctoral degree in an appropriate field of study for research activities of mutual interest to appointees and their agencies. Appointments are limited to persons referred by the National Research Council under its post-doctoral research associate program, may not exceed 2 years, and are subject to satisfactory outcome of evaluation of the associate's research during the first year.

(bb) Positions when filled by aliens in the absence of qualified citizens. Appointments under this authority are subject to prior approval of OPM except when the authority is specifically included in a delegated examining agreement with OPM.

(cc)-(ee) (Reserved).

(ff) Not to exceed 25 positions when filled in accordance with an agreement between OPM and the Department of Justice by persons in programs administered by the Attorney General of the United States under Public Law 91-452 and related statutes. A person appointed under this authority may continue to be employed under it after he/she ceases to be in a qualifying program only as long as he/she remains in the same agency without a break in service.

(gg) Positions when filled by persons with psychiatric disabilities who have demonstrated their ability to perform satisfactorily under a temporary appointment [such as one authorized in 213.3102(i)(3)] or who are certified as likely to be able to perform the essential functions of the job, with or without reasonable accommodation, by a State vocational rehabilitation counselor, a U.S. Department of Veterans Affairs Veterans Benefits Administration or Veterans Health Administration psychologist, vocational rehabilitation counselor, or psychiatrist. Upon completion of 2 years of satisfactory service under this authority, the employee can be converted, at the discretion of the agency, to competitive status under the provisions of Executive Order 12125 as amended by Executive Order 13124.

(hh) (Reserved).

(ii) Positions of Presidential Fellow, GS-9 and 11, in the Presidential Management Fellows Program. Initial appointments must be made at the GS-9 level. No one may serve under this authority for more than 2 years, unless extended with OPM approval for up to 1 additional year. Upon completion of 2 years of satisfactory service under this authority, the employee may qualify for conversion to competitive appointment under the provisions of Executive Order 12364, in accordance with requirements published in the Federal Personnel Manual.

(jj-kk) (Reserved).

(ll) Positions as needed of readers for blind employees, interpreters for deaf employees and personal assistants for handicapped employees, filled on a full-time, part-time, or intermittent basis.

Section 213.3103 Executive Office of the President

(a) Office of Administration.

(1) Not to exceed 75 positions to provide administrative services and support to the White House Office.

(b) Office of Management and Budget. (1) Not to exceed 15 positions at grades GS-5/15.

(c) Council on Environmental Quality. (1) Professional and technical positions in grades GS-9 through 15 on the staff of the Council.

(d)-(f) (Reserved).

(g) National Security Council.

(1) All positions on the staff of the Council.

(h) Office of Science and Technology Policy.

(1) Thirty positions of Senior Policy Analyst, GS-15; Policy Analyst, GS-11/14; and Policy Research Assistant, GS-9, for employment of anyone not to exceed 5 years on projects of a high priority nature.

(i) Office of National Drug Control Policy.

(1) Not to exceed 15 positions, GS-15 and below, of senior policy analysts and other personnel with expertise in drug-related issues and/or technical knowledge to aid in anti-drug abuse efforts.

Section 213.3104 Department of State

(a) Office of the Secretary.

(1) All positions, GS-15 and below, on the staff of the Family Liaison Office, Director General of the Foreign Service and the Director of Personnel, Office of the Under Secretary for Management.

(2) One position of Museum Curator (Arts), in the Office of the Under Secretary for Management, whose incumbent will serve as Director, Diplomatic Reception Rooms. No new appointments may be made after February 28, 1997.

(b) American Embassy, Paris, France.

(1) Chief, Travel and Visitor Unit. No new appointments may be made under this authority after August 10, 1981.

(c)-(f) (Reserved).

(g) Bureau of Population, Refugees, and Migration.

(1) Not to exceed 10 positions at grades GS-5 through 11 on the staff of the Bureau.

(h) Bureau of Administration.

(1) One Presidential Travel Officer. No new appointments may be made under this authority after June 11, 1981.

(2) One position of the Director, Art in Embassies Program, GM-1001-15.

(3) Up to 250 time-limited positions within the Department of State in support of the June 2004 Economic Summit of Industrial Nations. No new appointments may be made under this authority after June 30, 2004.

Section 213.3105 Department of the Treasury

(a) Office of the Secretary.

(1) Not to exceed 20 positions at the equivalent of GS-13 through GS-17 to supplement permanent staff in the study of complex problems relating to international financial, economic, trade, and energy policies and programs of the Government, when filled by individuals with special qualifications for the particular study being undertaken. Employment under this authority may not exceed 4 years.

(2) Not to exceed 20 positions, which will supplement permanent staff involved in the study and analysis of complex problems in the area of domestic economic and financial policy. Employment under this authority may not exceed 4 years.

(3) Not to exceed 50 positions in the Office of the Under Secretary (Enforcement).

(b) U.S. Customs Service.

(1) Positions in foreign countries designated as “interpreter-translator” and “special employees,” when filled by appointment of persons who are not citizens of the United States; and positions in foreign countries of messenger and janitor.

(2)-(8) (Reserved).

(9) Not to exceed 25 positions of Customs Patrol Officers in the Papago Indian Agency in the State of Arizona when filled by the appointment of persons of one-fourth or more Indian blood.

(d) Office of Thrift Supervision.

(1) All positions in the supervision policy and supervision operations functions of OTS. No new appointments may be made under this authority after December 31, 1993.

(e) Internal Revenue Service.

(1) Twenty positions of investigator for special assignments.

(f) (Reserved).

(g) Bureau of Alcohol, Tobacco, and Firearms.

(1) One hundred positions of criminal investigator for special assignments.

(2) One non-permanent Senior Level (SL) Criminal Investigator to serve as a senior advisor to the Assistant Director (Firearms, Explosives, and Arson).

Section 213.3106 Department of Defense

(a) Office of the Secretary.

(1)-(5) (Reserved).

(6) One Executive Secretary, US-USSR Standing Consultative Commission and Staff Analyst (SALT), Office of the Assistant Secretary of Defense (International Security Affairs).

(b) Entire Department (including the Office of the Secretary of Defense and the Departments of the Army, Navy, and Air Force).

(1) Professional positions in Military Dependent School Systems overseas.

(2) Positions in attaché 1 systems overseas, including all professional and scientific positions in the Naval Research Branch Office in London.

(3) Positions of clerk-translator, translator, and interpreter overseas.

(4) Positions of Educational Specialist the incumbents of which will serve as Director of Religious Education on the staffs of the chaplains in the military services.

(5) Positions under the program for utilization of alien scientists, approved under pertinent directives administered by the Director of Defense Research and Engineering of the Department of Defense, when occupied by alien scientists initially employed under the program including those who have acquired United States citizenship during such employment.

(6) Positions in overseas installations of the DOD when filled by dependents of military or civilian employees of the U.S. Government residing in the area. Employment under this authority may not extend longer than 2 months following the transfer from the area or separation of a dependent's sponsor: Provided, that

(i) A school employee may be permitted to complete the school year; and

(ii) An employee other than a school employee may be permitted to serve up to 1 additional year when the military department concerned finds that the additional employment is in the interest of management.

(7) Twenty secretarial and staff support positions at GS-12 or below on the White House Support Group.

(8) Positions in DOD research and development activities occupied by participants in the DOD Science and Engineering Apprenticeship Program for High School Students. Persons employed under this authority shall be bona fide high school students, at least 14 years old, pursuing courses related to the position occupied and limited to 1,040 working hours a year. Children of DOD employees may be appointed to these positions, notwithstanding the sons and daughters restriction, if the positions are in field activities at remote locations. Appointments under this authority may be made only to positions for which qualification standards established under 5 CFR part 302 are consistent with the education and experience standards established for comparable positions in the competitive service. Appointments under this authority may not be used to extend the service limits contained in any other appointing authority.

(9) Positions engaged in the reconstruction of Iraq for hiring non-U.S. citizens when there is a severe shortage of candidates with U.S. citizenship. This authority is limited to appointments made on or before July 1, 2004, and is subject to any restrictions set forth in the Department of Defense FY 2002 Appropriations Act. ?USGPO Galley Info Start:! NOTICES N22 PC\J\208001-A08NO3-007-*****-*****- -Name: renee frederick update -Payroll No: 31910 -Folios: 93-95 -Date: 11/03/2005?][FEDREG][VOL]*[/VOL][NO]*[/NO][DATE]*[/DATE][NOTICES][NOTICE][PREAMB][AGENCY]*[/AGENCY][SUBJECT]*[/SUBJECT][/PREAMB][SUPLINF][HED]*[/HED]

(10) Temporary or time-limited positions in direct support of U.S. Government efforts to rebuild and create an independent, free and secure Iraq and Afghanistan, when no other appropriate appointing authority applies. Positions will generally be located in Iraq or Afghanistan, but may be in other locations, including the United States, when directly supporting operations in Iraq or in Afghanistan. No new appointments may be made under this authority after March 31, 2009.

(c) (Reserved).

(d) General.

(1) Positions concerned with advising, administering, supervising, or performing work in the collection, processing, analysis, production, evaluation, interpretation, dissemination, and estimation of intelligence information, including scientific and technical positions in the intelligence function; and positions involved in the planning, programming, and management of intelligence resources when, in the opinion of OPM, it is impracticable to examine. This authority does not apply to positions assigned to cryptologic and communications intelligence activities/functions.

(2) Positions involved in intelligence-related work of the cryptologic intelligence activities of the military departments. This includes all positions of intelligence research specialist, and similar positions in the intelligence classification series; all scientific and technical positions involving the applications of engineering, physical or technical sciences to intelligence work; and professional as well as intelligence technician positions in which a majority of the incumbent's time is spent in advising, administering, supervising, or performing work in the collection, processing, analysis, production, evaluation, interpretation, dissemination, and estimation of intelligence information or in the planning, programming, and management of intelligence resources.

(e) Uniformed Services University of the Health Sciences.

(1) Positions of President, Vice Presidents, Assistant Vice Presidents, Deans, Deputy Deans, Associate Deans, Assistant Deans, Assistants to the President, Assistants to the Vice Presidents, Assistants to the Deans, Professors, Associate Professors, Assistant Professors, Instructors, Visiting Scientists, Research Associates, Senior Research Associates, and Postdoctoral Fellows.

(2) Positions established to perform work on projects funded from grants.

(f) National Defense University.

(1) Not to exceed 16 positions of senior policy analyst, GS-15, at the Strategic Concepts Development Center. Initial appointments to these positions may not exceed 6 years, but may be extended thereafter in 1-, 2-, or 3-year increments, indefinitely.

(g) Defense Communications Agency.

(1) Not to exceed 10 positions at grades GS-10/15 to staff and support the Crisis Management Center at the White House.

(h) Defense Acquisitions University.

(1) The Provost and professors.

(i) George C. Marshall European Center for Security Studies, Garmisch, Germany.

(1) The Director, Deputy Director, and positions of professor, instructor, and lecturer at the George C. Marshall European Center for Security Studies, Garmisch, Germany, for initial employment not to exceed 3 years, which may be renewed in increments from 1 to 2 years thereafter.

(j) Asia-Pacific Center for Security Studies, Honolulu, Hawaii.

(1) The Director, Deputy Director, Dean of Academics, Director of College, deputy department chairs, and senior positions of professor, associate professor, and research fellow within the Asia Pacific Center. Appointments may be made not to exceed 3 years and may be extended for periods not to exceed 3 years.

Section 213.3107 Department of the Army

(a)-(c) (Reserved).

(d) U.S. Military Academy, West Point, New York.

(1) Civilian professors, instructors, teachers (except teachers at the Children's School), Cadet Social Activities Coordinator, Chapel Organist and Choir-Master, Director of Intercollegiate Athletics, Associate Director of Intercollegiate Athletics, coaches, Facility Manager, Building Manager, three Physical Therapists (Athletic Trainers), Associate Director of Admissions for Plans and Programs, Deputy Director of Alumni Affairs; and librarian when filled by an officer of the Regular Army retired from active service, and the military secretary to the Superintendent when filled by a U.S. Military Academy graduate retired as a regular commissioned officer for disability.

(e)-(f) (Reserved).

(g) Defense Language Institute.

(1) All positions (professors, instructors, lecturers) which require proficiency in a foreign language or a knowledge of foreign language teaching methods.

(h) Army War College, Carlisle Barracks, PA.

(1) Positions of professor, instructor, or lecturer associated with courses of instruction of at least 10 months duration for employment not to exceed 5 years, which may be renewed in 1-, 2-, 3-, 4-, or 5-year increments indefinitely thereafter.

(i) (Reserved).

(j) U.S. Military Academy Preparatory School, Fort Monmouth, New Jersey.

(1) Positions of Academic Director, Department Head, and Instructor.

(k) U.S. Army Command and General Staff College, Fort Leavenworth, Kansas.

(1) Positions of professor, associate professor, assistant professor, and instructor associated with courses of instruction of at least 10 months duration, for employment not to exceed up to 5 years, which may be renewed in 1-, 2-, 3-, 4-, or 5-year increments indefinitely thereafter.

Section 213.3108 Department of the Navy

(a) General.

(1)-(14) (Reserved).

(15) Marine positions assigned to a coastal or seagoing vessel operated by a naval activity for research or training purposes.

(16) All positions necessary for the administration and maintenance of the official residence of the Vice President.

(b) Naval Academy, Naval Postgraduate School, and Naval War College.

(1) Professors, instructors, and teachers; the Director of Academic Planning, Naval Postgraduate School; and the Librarian, Organist-Choirmaster, Registrar, the Dean of Admissions, and social counselors at the Naval Academy.

(c) Chief of Naval Operations.

(1) One position at grade GS-12 or above that will provide technical, managerial, or administrative support on highly classified functions to the Deputy Chief of Naval Operations (Plans, Policy, and Operations).

(d) Military Sealift Command.

(1) All positions on vessels operated by the Military Sealift Command.

(e) Pacific Missile Range Facility, Barking Sands, Hawaii.

(1) All positions. This authority applies only to positions that must be filled pending final decision on contracting of Facility operations. No new appointments may be made under this authority after July 29, 1988.

(f) (Reserved).

(g) Office of Naval Research.

(1) Scientific and technical positions, GS-13/15, in the Office of Naval Research International Field Office which covers satellite offices within the Far East, Africa, Europe, Latin America, and the South Pacific. Positions are to be filled by personnel having specialized experience in scientific and/or technical disciplines of current interest to the Department of the Navy.

Section 213.3109 Department of the Air Force

(a) Office of the Secretary.

(1) One Special Assistant in the Office of the Secretary of the Air Force. This position has advisory rather than operating duties except as operating or administrative responsibilities may be exercised in connection with the pilot studies.

(b) General.

(1) Professional, technical, managerial and administrative positions supporting space activities, when approved by the Secretary of the Air Force.

(2) One hundred forty positions, serviced by Hill Air Force Base, Utah, engaged in interdepartmental activities in support of national defense projects involving scientific and technical evaluations.

(c) Not to exceed 20 professional positions, GS-11 through GS-15, in Detachments 6 and 51, SM-ALC, Norton and McClellan Air Force Bases, California, which will provide logistic support management to specialized research and development projects.

(d) U.S. Air Force Academy, Colorado.

(1) (Reserved).

(2) Positions of Professor, Associate Professor, Assistant Professor, and Instructor, in the Dean of Faculty, Commandant of Cadets, Director of Athletics, and Preparatory School of the United States Air Force Academy.

(e) (Reserved).

(f) Air Force Office of Special Investigations.

(1) Positions of Criminal Investigators/Intelligence Research Specialists, GS-5 through GS-15, in the Air Force Office of Special Investigations.

(g) Not to exceed eight positions, GS-12 through 15, in Headquarters Air Force Logistics Command, DCS Material Management, Office of Special Activities, Wright-Patterson Air Force Base, Ohio, which will provide logistic support management staff guidance to classified research and development projects.

(h) Air University, Maxwell Air Force Base, Alabama.

(1) Positions of Professor, Instructor, or Lecturer.

(i) Air Force Institute of Technology, Wright-Patterson Air Force Base, Ohio. (1) Civilian deans and professors.

(j) Air Force Logistics Command.

(1) One Supervisory Logistics Management Specialist, GM-346-14, in Detachment 2, 2762 Logistics Management Squadron (Special), Greenville, Texas.

(k) One position of Supervisory Logistics Management Specialist, GS-346-15, in the 2762nd Logistics Squadron (Special), at Wright-Patterson Air Force Base, Ohio.

(l) One position of Commander, Air National Guard Readiness Center, Andrews Air Force Base, Maryland.

Section 213.3110 Department of Justice

(a) General.

(1) Deputy U.S. Marshals employed on an hourly basis for intermittent service.

(2) Positions at GS-15 and below on the staff of an office of a special counsel.

(3)-(5) (Reserved).

(6) Positions of Program Manager and Assistant Program Manager supporting the International Criminal Investigative Training Assistance Program in foreign countries. Initial appointments under this authority may not exceed 2 years, but may be extended in one-year increments for the duration of the in-country program.

(b) Immigration and Naturalization Service.

(1) (Reserved).

(2) Not to exceed 500 positions of interpreters and language specialists, GS-1040-5/9.

(3) Not to exceed 25 positions, GS-15 and below, with proficiency in speaking, reading, and writing the Russian language and serving in the Soviet Refugee Processing Program with permanent duty location in Moscow, Russia.

(c) Drug Enforcement Administration.

(1) (Reserved).

(2) Four hundred positions of Intelligence Research Agent and/or Intelligence Operation Specialist in the GS-132 series, grades GS-9 through GS-15.

(3) Not to exceed 200 positions of Criminal Investigator (Special Agent). New appointments may be made under this authority only at grades GS-7/11.

(d) National Drug Intelligence Center. All positions.

Section 213.3111 Department of Homeland Security

(a) Up to 50 positions at the GS-5 through 15 grade levels at the Department of Homeland Security. No new appointments may be made under this authority after September 30, 2005. (b)(1) Ten positions for over site policy and direction of sensitive law enforcement activities.

Section 213.3112 Department of the Interior

(a) General.

(1) Technical, maintenance, and clerical positions at or below grades GS-7, WG-10, or equivalent, in the field service of the Department of the Interior, when filled by the appointment of persons who are certified as maintaining a permanent and exclusive residence within, or contiguous to, a field activity or district, and as being dependent for livelihood primarily upon employment available within the field activity of the Department.

(2) All positions on Government-owned ships or vessels operated by the Department of the Interior.

(3) Temporary or seasonal caretakers at temporarily closed camps or improved areas to maintain grounds, buildings, or other structures and prevent damages or theft of Government property. Such appointments shall not extend beyond 130 working days a year without the prior approval of OPM.

(4) Temporary, intermittent, or seasonal field assistants at GS-7, or its equivalent, and below in such areas as forestry, range management, soils, engineering, fishery and wildlife management, and with surveying parties. Employment under this authority may not exceed 180 working days a year.

(5) Temporary positions established in the field service of the Department for emergency forest and range fire prevention or suppression and blister rust control for not to exceed 180 working days a year: Provided, that an employee may work as many as 220 working days a year when employment beyond 180 days is required to cope with extended fire seasons or sudden emergencies such as fire, flood, storm, or other unforeseen situations involving potential loss of life or property.

(6) Persons employed in field positions, the work of which is financed jointly by the Department of the Interior and cooperating persons or organizations outside the Federal service.

(7) All positions in the Bureau of Indian Affairs and other positions in the Department of the Interior directly and primarily related to providing services to Indians when filled by the appointment of Indians. The Secretary of the Interior is responsible for defining the term “Indian.”

(8) Temporary, intermittent, or seasonal positions at GS-7 or below in Alaska, as follows: Positions in nonprofessional mining activities, such as those of drillers, miners, caterpillar operators, and samplers. Employment under this authority shall not exceed 180 working days a year and shall be appropriate only when the activity is carried on in a remote or isolated area and there is a shortage of available candidates for the positions.

(9) Temporary, part-time, or intermittent employment of mechanics, skilled laborers, equipment operators and tradesmen on construction, repair, or maintenance work not to exceed 180 working days a year in Alaska, when the activity is carried on in a remote or isolated area and there is a shortage of available candidates for the positions.

(10) Seasonal airplane pilots and airplane mechanics in Alaska, not to exceed 180 working days a year.

(11) Temporary staff positions in the Youth Conservation Corps Centers operated by the Department of the Interior. Employment under this authority shall not exceed 11 weeks a year except with prior approval of OPM.

(12) Positions in the Youth Conservation Corps for which pay is fixed at the Federal minimum wage rate. Employment under this authority may not exceed 10 weeks.

(b) (Reserved).

(c) Indian Arts and Crafts Board. (1) The Executive Director.

(d) (Reserved).

(e) Office of the Assistant Secretary, Territorial and International Affairs.

(1) (Reserved).

(2) Not to exceed four positions of Territorial Management Interns, grades GS-5, GS-7, or GS-9, when filled by territorial residents who are U.S. citizens from the Virgin Islands or Guam; U.S. nationals from American Samoa; or in the case of the Northern Marianas, will become U.S. citizens upon termination of the U.S. trusteeship. Employment under this authority may not exceed 6 months.

(3) (Reserved).

(4) Special Assistants to the Governor of American Samoa who perform specialized administrative, professional, technical, and scientific duties as members of his or her immediate staff.

(f) National Park Service.

(1) (Reserved).

(2) Positions established for the administration of Kalaupapa National Historic Park, Molokai, Hawaii, when filled by appointment of qualified patients and Native Hawaiians, as provided by Public Law 95-565.

(3) Seven full-time permanent and 31 temporary, part-time, or intermittent positions in the Redwood National Park, California, which are needed for rehabilitation of the park, as provided by Public Law 95-250.

(4) One Special Representative of the Director.

(5) All positions in the Grand Portage National Monument, Minnesota, when filled by the appointment of recognized members of the Minnesota Chippewa Tribe.

(g) Bureau of Reclamation.

(1) Appraisers and examiners employed on a temporary, intermittent, or part-time basis on special valuation or prospective-entrymen-review projects where knowledge of local values on conditions or other specialized qualifications not possessed by regular Bureau employees are required for successful results. Employment under this provision shall not exceed 130 working days a year in any individual case: Provided, that such employment may, with prior approval of OPM, be extended for not to exceed an additional 50 working days in any single year.

(h) Office of the Deputy Assistant Secretary for Territorial Affairs.

(1) Positions of Territorial Management Interns, GS-5, when filled by persons selected by the Government of the Trust Territory of the Pacific Islands. No appointment may extend beyond 1 year.

Section 213.3113 Department of Agriculture

(a) General.

(1) Agents employed in field positions the work of which is financed jointly by the Department and cooperating persons, organizations, or governmental agencies outside the Federal service. Except for positions for which selection is jointly made by the Department and the cooperating organization, this authority is not applicable to positions in the Agricultural Research Service or the National Agricultural Statistics Service. This authority is not applicable to the following positions in the Agricultural Marketing Service: Agricultural commodity grader (grain) and (meat), (poultry), and (dairy), agricultural commodity aid (grain), and tobacco inspection positions.

(2)-(4) (Reserved).

(5) Temporary, intermittent, or seasonal employment in the field service of the Department in positions at and below GS-7 and WG-10 in the following types of positions: Field assistants for sub professional services; agricultural helpers, helper-leaders, and workers in the Agricultural Research Service and the Animal and Plant Health Inspection Service; and subject to prior OPM approval granted in the calendar year in which the appointment is to be made, other clerical, trades, crafts, and manual labor positions. Total employment under this subparagraph may not exceed 180 working days in a service year: Provided, that an employee may work as many as 220 working days in a service year when employment beyond 180 days is required to cope with extended fire seasons or sudden emergencies such as fire, flood, storm, or other unforeseen situations involving potential loss of life or property. This paragraph does not cover trades, crafts, and manual labor positions covered by paragraph (i) of § 213.3102 or positions within the Forest Service.

(6)-(7) (Reserved).

(b)-(c) (Reserved).

(d) Farm Service Agency.

(1) (Reserved).

(2) Members of State Committees: Provided, that employment under this authority shall be limited to temporary intermittent (WAE) positions whose principal duties involve administering farm programs within the State consistent with legislative and Departmental requirements and reviewing national procedures and policies for adaptation at State and local levels within established parameters. Individual appointments under this authority are for 1 year and may be extended only by the Secretary of Agriculture or his designee. Members of State Committees serve at the pleasure of the Secretary.

(e) Rural Development.

(1) (Reserved).

(2) County committeemen to consider, recommend, and advise with respect to the Rural Development program.

(3)-(5) (Reserved).

(6) Professional and clerical positions in the Trust Territory of the Pacific Islands when occupied by indigenous residents of the Territory to provide financial assistance pursuant to current authorizing statutes.

(f) Agricultural Marketing Service.

(1) Positions of Agricultural Commodity Graders, Agricultural Commodity Technicians, and Agricultural Commodity Aids at grades GS-9 and below in the tobacco, dairy, and poultry commodities; Meat Acceptance Specialists, GS-11 and below; Clerks, Office Automation Clerks, and Computer Clerks at GS-5 and below; Clerk-Typists at grades GS-4 and below; and Laborers under the Wage System. Employment under this authority is limited to either 1,280 hours or 180 days in a service year.

(2) Positions of Agricultural Commodity Graders, Agricultural Commodity Technicians, and Agricultural Commodity Aids at grades GS-11 and below in the cotton, raisin, and processed fruit and vegetable commodities and the following positions in support of these commodities: Clerks, Office Automation Clerks, and Computer Clerks and Operators at GS-5 and below; Clerk-Typists at grades GS-4 and below; and, under the Federal Wage System, High Volume Instrumentation (HVI) Operators and HVI Operator Leaders at WG/WL-2 and below, respectively, Instrument Mechanics/Workers/Helpers at WG-10 and below, and Laborers. Employment under this authority may not exceed 180 days in a service year. In unforeseen situations such as bad weather or crop conditions, unanticipated plant demands, or increased imports, employees may work up to 240 days in a service year. Cotton Agricultural Commodity Graders, GS-5, may be employed as trainees for the first appointment for an initial period of 6 months for training without regard to the service year limitation.

(3) Milk Market Administrators.

(4) All positions on the staffs of the Milk Market Administrators.

(g)-(k) (Reserved).

(l) Food Safety and Inspection Service.

(1)-(2) (Reserved).

(3) Positions of Meat and Poultry Inspectors (Veterinarians at GS-11 and below and non-Veterinarians at appropriate grades below GS-11) for employment on a temporary, intermittent, or seasonal basis, not to exceed 1,280 hours a year.

(m) Grain Inspection, Packers and Stockyards Administration.

(1) One hundred and fifty positions of Agricultural Commodity Aid (Grain), GS-2/4; 100 positions of Agricultural Commodity Technician (Grain), GS-4/7; and 60 positions of Agricultural Commodity Grader (Grain), GS-5/9, for temporary employment on a part-time, intermittent, or seasonal basis not to exceed 1,280 hours in a service year.

(n) Alternative Agricultural Research and Commercialization Corporation. (1) Executive Director.

Section 213.3114 Department of Commerce

(a) General.

(1)-(2) (Reserved).

(3) Not to exceed 50 scientific and technical positions whose duties are performed primarily in the Antarctic. Incumbents of these positions may be stationed in the continental United States for periods of orientation, training, analysis of data, and report writing.

(b)-(c) (Reserved).

(d) Bureau of the Census.

(1) Managers, supervisors, technicians, clerks, interviewers, and enumerators in the field service, for time-limited employment to conduct a census.

(2) Current Program Interviewers employed in the field service.

(e)-(h) (Reserved).

(i) Office of the Under Secretary for International Trade.

(1) Fifteen positions at GS-12 and above in specialized fields relating to international trade or commerce in units under the jurisdiction of the Under Secretary for International Trade. Incumbents will be assigned to advisory rather than to operating duties, except as operating and administrative responsibility may be required for the conduct of pilot studies or special projects. Employment under this authority will not exceed 2 years for an individual appointee.

(2) (Reserved).

(3) Not to exceed 15 positions in grades GS-12 through GS-15, to be filled by persons qualified as industrial or marketing specialists; who possess specialized knowledge and experience in industrial production, industrial operations and related problems, market structure and trends, retail and wholesale trade practices, distribution channels and costs, or business financing and credit procedures applicable to one or more of the current segments of U.S. industry served by the Under Secretary for International Trade, and the subordinate components of his organization which are involved in Domestic Business matters. Appointments under this authority may be made for a period of not to exceed 2 years and may, with prior approval of OPM, be extended for an additional period of 2 years.

(j) National Oceanic and Atmospheric Administration.

(1)-(2) (Reserved).

(3) All civilian positions on vessels operated by the National Ocean Service.

(4) Temporary positions required in connection with the surveying operations of the field service of the National Ocean Service. Appointment to such positions shall not exceed 8 months in any 1 calendar year.

(k) (Reserved).

(l) National Telecommunication and Information Administration.

(1) Seventeen professional positions in grades GS-13 through GS-15.

Section 213.3115 Department of Labor

(a) Office of the Secretary.

(1) Chairman and five members, Employees' Compensation Appeals Board.

(2) Chairman and eight members, Benefits Review Board.

(b)-(c) (Reserved).

(d) Employment and Training Administration.

(1) Not to exceed 10 positions of Supervisory Manpower Development Specialist and Manpower Development Specialist, GS-7/15, in the Division of Indian and Native American Programs, when filled by the appointment of persons of one-fourth or more Indian blood. These positions require direct contact with Indian tribes and communities for the development and administration of comprehensive employment and training programs.

Section 213.3116 Department of Health and Human Services

(a) General.

(1) Intermittent positions, at GS-15 and below and WG-10 and below, on teams under the National Disaster Medical System including Disaster Medical Assistance Teams and specialty teams, to respond to disasters, emergencies, and incidents/events involving medical, mortuary and public health needs.

(b) Public Health Service.

(1) (Reserved).

(2) Positions at Government sanatoria when filled by patients during treatment or convalescence.

(3) (Reserved).

(4) Positions concerned with problems in preventive medicine financed or participated in by the Department of Health and Human Services and a cooperating State, county, municipality, incorporated organization, or an individual in which at least one-half of the expense is contributed by the participating agency either in salaries, quarters, materials, equipment, or other necessary elements in the carrying on of the work.

(5)-(6) (Reserved).

(7) Not to exceed 50 positions associated with health screening programs for refugees.

(8) All positions in the Public Health Service and other positions in the Department of Health and Human Services directly and primarily related to providing services to Indians when filled by the appointment of Indians. The Secretary of Health and Human Services is responsible for defining the term “Indian.”

(9) (Reserved).

(10) Health care positions of the National Health Service Corps for employment of any one individual not to exceed 4 years of service in health manpower shortage areas.

(11)-(14) (Reserved).

(15) Not to exceed 200 staff positions, GS-15 and below, in the Immigration Health Service, for an emergency staff to provide health related services to foreign entrants.

(c)-(e) (Reserved).

(f) The President's Council on Physical Fitness.

(1) Four staff assistants.

Section 213.3117 Department of Education

(a) Positions concerned with problems in education financed and participated in by the Department of Education and a cooperating State educational agency, or university or college, in which there is joint responsibility for selection and supervision of employees, and at least one-half of the expense is contributed by the cooperating agency in salaries, quarters, materials, equipment, or other necessary elements in the carrying on of the work.

Section 213.3124 Board of Governors, Federal Reserve System

(a) All positions.

Section 213.3127 Department of Veterans Affairs

(a) Construction Division.

(1) Temporary construction workers paid from “purchase and hire” funds and appointed for not to exceed the duration of a construction project.

(b) Not to exceed 400 positions of rehabilitation counselors, GS-3 through GS-11, in Alcoholism Treatment Units and Drug Dependence Treatment Centers, when filled by former patients.

(c) Board of Veterans' Appeals.

(1) Positions, GS-15, when filled by a member of the Board. Except as provided by section 201(d) of Public Law 100-687, appointments under this authority shall be for a term of 9 years, and may be renewed.

(2) Positions, GS-15, when filled by a non-member of the Board who is awaiting Presidential approval for appointment as a Board member.

(d) Not to exceed 600 positions at grades GS-3 through GS-11, involved in the Department's Vietnam Era Veterans Readjustment Counseling Service.

Section 213.3128 Broadcasting Board of Governors

(a) International Broadcasting Bureau.

(1) Not to exceed 200 positions at grades GS-15 and below in the Office of Cuba Broadcasting. Appointments may not be made under this authority to administrative, clerical, and technical support positions.

Section 213.3132 Small Business Administration

(a) When the President under 42 U.S.C. 1855-1855g, the Secretary of Agriculture under 7 U.S.C. 1961, or the Small Business Administration under 15 U.S.C. 636(b)(1) declares an area to be a disaster area, positions filled by time-limited appointment of employees to make and administer disaster loans in the area under the Small Business Act, as amended. Service under this authority may not exceed 4 years, and no more than 2 years may be spent on a single disaster. Exception to this time limit may only be made with prior Office of Personnel Management approval. Appointments under this authority may not be used to extend the 2-year service limit contained in paragraph (b) below. No one may be appointed under this authority to positions engaged in long-term maintenance of loan portfolios.

(b) When the President under 42 U.S.C. 1855-1855g, the Secretary of Agriculture under 7 U.S.C. 1961, or the Small Business Administration under 15 U.S.C. 636(b)(1) declares an area to be a disaster area, positions filled by time-limited appointment of employees to make and administer disaster loans in that area under the Small Business Act, as amended. No one may serve under this authority for more than an aggregate of 2 years without a break in service of at least 6 months. Persons who have had more than 2 years of service under paragraph (a) of this section must have a break in service of at least 8 months following such service before appointment under this authority. No one may be appointed under this authority to positions engaged in long-term maintenance of loan portfolios.

Section 213.3133 Federal Deposit Insurance Corporation

(a)-(b) (Reserved).

(c) Temporary positions located at closed banks or savings and loan institutions that are concerned with liquidating the assets of the institutions, liquidating loans to the institutions, or paying the depositors of closed insured institutions. New appointments may be made under this authority only during the 60 days immediately following the institution's closing date. Such appointments may not exceed 1 year, but may be extended for not to exceed 1 additional year.

Section 213.3136 U.S. Soldiers' and Airmen's Home

(a) (Reserved).

(b) Positions when filled by member-residents of the Home.

Section 213.3146 Selective Service System

(a) State Directors.

Section 213.3148 National Aeronautics and Space Administration

(a) One hundred and fifty alien scientists having special qualifications in the fields of aeronautical and space research where such employment is deemed by the Administrator of the National Aeronautics and Space Administration to be necessary in the public interest.

Section 213.3155 Social Security Administration

(a) Six positions of Social Insurance Representative in the district offices of the Social Security Administration in the State of Arizona when filled by the appointment of persons of one-fourth or more Indian blood.

(b) Seven positions of Social Insurance Representative in the district offices of the Social Security Administration in the State of New Mexico when filled by the appointment of persons of one-fourth or more Indian blood.

(c) Two positions of Social Insurance Representative in the district offices of the Social Security Administration in the State of Alaska when filled by the appointments of persons of one-fourth or more Alaskan Native blood (Eskimos, Indians, or Aleuts).

Section 213.3162 The President's Crime Prevention Council

(a) Up to 7 positions established in the President's Crime Prevention Council office created by the Violent Crime Control and Law Enforcement Act of 1994. No new appointments may be made under this authority after March 31, 1998.

Section 213.3165 Chemical Safety and Hazard Investigation Board

(a) (Reserved).

(b) Seven positions of either Chemical Incident Investigators or Chemical Safety Recommendation Specialists, in the Office of Investigations and Safety Programs. No new appointments may be made under this authority after October 15, 2002, or until the seventh person (who was given an offer of employment on September 13, 2002, and is waiting a physical examination clearance) is appointed, whichever is later.

Section 213.3166 Court Services and Offender Supervision Agency of the District of Columbia

(a) All positions, except for the Director, established to create the Court Services and Offender Supervision Agency of the District of Columbia. No new appointments may be made under this authority after March 31, 2004.

Section 213.3174 Smithsonian Institution

(a) (Reserved).

(b) All positions located in Panama which are part of or which support the Smithsonian Tropical Research Institute.

(c) Positions at GS-15 and below in the National Museum of the American Indian requiring knowledge of, and experience in, tribal customs and culture. Such positions comprise approximately 10 percent of the Museum's positions and, generally, do not include secretarial, clerical, administrative, or program support positions.

Section 213.3175 Woodrow Wilson International Center for Scholars

(a) One Asian Studies Program Administrator, one International Security Studies Program Administrator, one Latin American Program Administrator, one Russian Studies Program Administrator, one West European Program Administrator, one Environmental Change & Security Studies Program Administrator, one United States Studies Program Administrator, two Social Science Program Administrators, and one Middle East Studies Program Administrator.

Section 213.3178 Community Development Financial Institutions Fund

(a) All positions in the Fund and positions created for the purpose of establishing the Fund's operations in accordance with the Community Development Banking and Financial Institutions Act of 1994, except for any positions required by the Act to be filled by competitive appointment. No new appointments may be made under this authority after September 23, 1998.

Section 213.3180 Utah Reclamation and Conservation Commission

(a) Executive Director.

Section 213.3182 National Foundation on the Arts and the Humanities

(a) National Endowment for the Arts.

(1) Artistic and related positions at grades GS-13 through GS-15 engaged in the review, evaluation and administration of applications and grants supporting the arts, related research and assessment, policy and program development, arts education, access programs and advocacy or evaluation of critical arts projects and outreach programs. Duties require artistic stature, in-depth knowledge of arts disciplines and/or artistic-related leadership qualities.

Section 213.3190 African Development Foundation

(a) One Enterprise Development Fund Manager. Appointment authority is limited to four years unless extended by the Office of Personnel Management.

Section 213.3191 Office of Personnel Management

(a)-(c) (Reserved).

(d) Part-time and intermittent positions of test examiners at grades GS-8 and below.

Section 213.3194 Department of Transportation

(a) U.S. Coast Guard.

(1) (Reserved).

(2) Lamplighters.

(3) Professors, Associate Professors, Assistant Professors, Instructors, one Principal Librarian, one Cadet Hostess, and one Psychologist (Counseling) at the Coast Guard Academy, New London, Connecticut.

(b)-(d) (Reserved).

(e) Maritime Administration.

(1)-(2) (Reserved).

(3) All positions on Government-owned vessels or those bareboats chartered to the Government and operated by or for the Maritime Administration.

(4)-(5) (Reserved).

(6) U.S. Merchant Marine Academy, positions of: Professors, Instructors, and Teachers, including heads of Departments of Physical Education and Athletics, Humanities, Mathematics and Science, Maritime Law and Economics, Nautical Science, and Engineering; Coordinator of Shipboard Training; the Commandant of Midshipmen, the Assistant Commandant of Midshipmen; Director of Music; three Battalion Officers; three Regimental Affairs Officers; and one Training Administrator.

(7) U.S. Merchant Marine Academy positions of: Associate Dean; Registrar; Director of Admissions; Assistant Director of Admissions; Director, Office of External Affairs; Placement Officer; Administrative Librarian; Shipboard Training Assistant; three Academy Training Representatives; and one Education Program Assistant.

Section 213.3195 Federal Emergency Management Agency

(a) Field positions at grades GS-15 and below, or equivalent, which are engaged in work directly related to unique response efforts to environmental emergencies not covered by the Disaster Relief Act of 1974, Public Law 93-288, as amended. Employment under this authority may not exceed 36 months on any single emergency. Persons may not be employed under this authority for long-term duties or for work not directly necessitated by the emergency response effort.

(b) Not to exceed 30 positions at grades GS-15 and below in the Offices of Executive Administration, General Counsel, Inspector General, Comptroller, Public Affairs, Personnel, Acquisition Management, and the State and Local Program and Support Directorate which are engaged in work directly related to unique response efforts to environmental emergencies not covered by the Disaster Relief Act of 1974, Public Law 93-288, as amended. Employment under this authority may not exceed 36 months on any single emergency, or for long-term duties or work not directly necessitated by the emergency response effort. No one may be reappointed under this authority for service in connection with a different emergency unless at least 6 months have elapsed since the individual's latest appointment under this authority.

(c) Not to exceed 350 professional and technical positions at grades GS-5 through GS-15, or equivalent, in Mobile Emergency Response Support Detachments (MERS).

Section 213.3199 Temporary Organizations

Positions on the staffs of temporary organizations, as defined in 5 U.S.C. 3161(a). Appointments may not exceed 3 years, but temporary organizations may extend the appointments for 2 additional years if the conditions for extension are related to the completion of the study or project.

Schedule B

Section 213.3202 Entire Executive Civil Service

(a) Student Educational Employment Program—Student Temporary Employment Program.

(1) Students may be appointed to the Student Temporary Employment Program if they are pursuing any of the following educational programs:

(i) High School Diploma or General Equivalency Diploma (GED);

(ii) Vocational/Technical certificate;

(iii) Associate degree;

(iv) Baccalaureate degree;

(v) Graduate degree; or

(vi) Professional degree

* * * * * [The remaining text of provisions pertaining to the Student Temporary Employment Program can be found in 5 CFR 213.3202(a).]

(b) Student Educational Employment Program—Student Career Experience Program.

(1)(i) Students may be appointed to the Student Career Experience Program if they are pursuing any of the following educational programs:

(A) High school diploma or General Equivalency Diploma (GED);

(B) Vocational/Technical certificate;

(C) Associate degree;

(D) Baccalaureate degree;

(E) Graduate degree; or

(F) Professional degree.

(ii) Student participants in the Harry S. Truman Foundation Scholarship Program under the provision of Public Law 93-842 are eligible for appointments under the Student Career Experience Program.

* * * * * [The remaining text of provisions pertaining to the Student Career Experience Program can be found in 5 CFR 213.3202(b).]

(c)-(i) (Reserved).

(j) Special executive development positions established in connection with Senior Executive Service candidate development programs which have been approved by OPM. A Federal agency may make new appointments under this authority for any period of employment not exceeding 3 years for one individual.

(k)-(l) (Reserved).

(m) Positions when filled under any of the following conditions:

(1) Appointment at grades GS-15 and above, or equivalent, in the same or a different agency without a break in service from a career appointment in the Senior Executive Service (SES) of an individual who:

(i) Has completed the SES probationary period;

(ii) Has been removed from the SES because of less than fully successful executive performance or a reduction in force; and

(iii) Is entitled to be placed in another civil service position under 5 U.S.C. 3594(b).

(2) Appointment in a different agency without a break in service of an individual originally appointed under paragraph (m)(1).

(3) Reassignment, promotion, or demotion within the same agency of an individual appointed under this authority.

(n) Positions when filled by preference eligibles or veterans who have been separated from the armed forces under honorable conditions after 3 years or more of continuous active service and who, in accordance with 5 U.S.C. 3304(f) (Pub. L. 105-339), applied for these positions under merit promotion procedures when applications were being accepted by the agency from individuals outside its own workforce. These veterans may be promoted, demoted, or reassigned, as appropriate, to other positions within the agency but would remain employed under this excepted authority as long as there is no break in service. No new appointments may be made under this authority after November 30, 1999.

(o) The Federal Career Intern Program—

(1) Appointments. Appointments made under the Federal Career Intern Program may not exceed 2 years, except as described in paragraph (o)(2) of this section. Initial appointments shall be made to a position at the grades GS-5, 7, or 9 (and equivalent) or other trainee levels appropriate for the Program. Agencies must request OPM approval to cover additional grades to meet unique or specialized needs. Agencies will use part 302 of this chapter when making appointments under this Program.

(2) Extensions.

(i) Agencies must request, in writing, OPM approval to extend internships for up to 1 additional year beyond the authorized 2 years for additional training and/or developmental activities.

* * * * * [The remaining text of provisions pertaining to the Federal Career Intern Program can be found in 5 CFR 213.3202(o).]

Section 213.3203 Executive Office of the President

(a) (Reserved).

(b) Office of the Special Representative for Trade Negotiations.

(1) Seventeen positions of economist at grades GS-12 through GS-15.

Section 213.3204 Department of State

(a)-(c) (Reserved).

(d) Fourteen positions on the household staff of the President's Guest House (Blair and Blair-Lee Houses).

(e) (Reserved).

(f) Scientific, professional, and technical positions at grades GS-12 to GS-15 when filled by persons having special qualifications in foreign policy matters. Total employment under this authority may not exceed 4 years.

Section 213.3205 Department of the Treasury

(a) Positions of Deputy Comptroller of the Currency, Chief National Bank Examiner, Assistant Chief National Bank Examiner, Regional Administrator of National Banks, Deputy Regional Administrator of National Banks, Assistant to the Comptroller of the Currency, National Bank Examiner, Associate National Bank Examiner, and Assistant National Bank Examiner, whose salaries are paid from assessments against national banks and other financial institutions.

(b)-(c) (Reserved).

(d) Positions concerned with the protection of the life and safety of the President and members of his immediate family, or other persons for whom similar protective services are prescribed by law, when filled in accordance with special appointment procedures approved by OPM. Service under this authority may not exceed:

(1) A total of 4 years; or

(2) 120 days following completion of the service required for conversion under Executive Order 11203, whichever comes first.

(e) Positions, grades GS-5 through 12, of Treasury Enforcement Agent in the Bureau of Alcohol, Tobacco, and Firearms; and Treasury Enforcement Agent, Pilot, Marine Enforcement Officer, and Aviation Enforcement Officer in the U.S. Customs Service. Service under this authority may not exceed 3 years and 120 days.

Section 213.3206 Department of Defense

(a) Office of the Secretary.

(1) (Reserved).

(2) Professional positions at GS-11 through GS-15 involving systems, costs, and economic analysis functions in the Office of the Assistant Secretary (Program Analysis and Evaluation); and in the Office of the Deputy Assistant Secretary (Systems Policy and Information) in the Office of the Assistant Secretary (Comptroller).

(3)-(4) (Reserved).

(5) Four Net Assessment Analysts.

(b) Interdepartmental activities.

(1) Five positions to provide general administration, general art and information, photography, and/or visual information support to the White House Photographic Service.

(2) Eight positions, GS-15 or below, in the White House Military Office, providing support for airlift operations, special events, security, and/or administrative services to the Office of the President.

(c) National Defense University.

(1) Sixty-one positions of Professor, GS-13/15, for employment of any one individual on an initial appointment not to exceed 3 years, which may be renewed in any increment from 1 to 6 years indefinitely thereafter.

(d) General.

(1) One position of Law Enforcement Liaison Officer (Drugs), GS-301-15, U.S. European Command.

(2) Acquisition positions at grades GS-5 through GS-11, whose incumbents have successfully completed the required course of education as participants in the Department of Defense scholarship program authorized under 10 U.S.C. 1744.

(e) Office of the Inspector General.

(1) Positions of Criminal Investigator, GS-1811-5/15.

(f) Department of Defense Polygraph Institute, Fort McClellan, Alabama.

(1) One Director, GM-15.

(g) Defense Security Assistance Agency. All faculty members with instructor and research duties at the Defense Institute of Security Assistance Management, Wright Patterson Air Force Base, Dayton, Ohio. Individual appointments under this authority will be for an initial 3-year period, which may be followed by an appointment of indefinite duration.

Section 213.3207 Department of the Army

(a) U.S. Army Command and General Staff College.

(1) Seven positions of professors, instructors, and education specialists. Total employment of any individual under this authority may not exceed 4 years.

Section 213.3208 Department of the Navy

(a) Naval Underwater Systems Center, New London, Connecticut.

(1) One position of Oceanographer, grade GS-14, to function as project director and manager for research in the weapons systems applications of ocean eddies.

(b) All civilian faculty positions of professors, instructors, and teachers on the staff of the Armed Forces Staff College, Norfolk, Virginia.

(c) One Director and four Research Psychologists at the professor or GS-15 level in the Defense Personnel Security Research and Education Center.

(d) All civilian professor positions at the Marine Corps Command and Staff College.

(e) One position of Staff Assistant, GS-301, whose incumbent will manage the Navy's Executive Dining facilities at the Pentagon.

(f) One position of Housing Management Specialist, GM-1173-14, involved with the Bachelor Quarters Management Study. No new appointments may be made under this authority after February 29, 1992.

Section 213.3209 Department of the Air Force

(a) Not to exceed four interdisciplinary positions for the Air Research Institute at the Air University, Maxwell Air Force Base, Alabama, for employment to complete studies proposed by candidates and acceptable to the Air Force. Initial appointments are made not to exceed 3 years, with an option to renew or extend the appointments in increments of 1, 2, or 3 years indefinitely thereafter.

(b)-(c) (Reserved).

(d) Positions of Instructor or professional academic staff at the Air University, associated with courses of instruction of varying durations, for employment not to exceed 3 years, which may be renewed for an indefinite period thereafter.

(e) One position of Director of Development and Alumni Programs, GS-301-13, with the U.S. Air Force Academy, Colorado.

Section 213.3210 Department of Justice

(a) Criminal Investigator (Special Agent) positions in the Drug Enforcement Administration. New appointments may be made under this authority only at grades GS-5 through 11. Service under the authority may not exceed 4 years. Appointments made under this authority may be converted to career or career-conditional appointments under the provisions of Executive Order 12230, subject to conditions agreed upon between the Department and OPM.

(b) (Reserved).

(c) Not to exceed 400 positions at grades GS-5 through 15 assigned to regional task forces established to conduct special investigations to combat drug trafficking and organized crime.

(d) (Reserved).

(e) Positions, other than secretarial, GS-6 through GS-15, requiring knowledge of the bankruptcy process, on the staff of the offices of United States Trustees or the Executive Office for U.S. Trustees.

Section 213.3213 Department of Agriculture

(a) Foreign Agricultural Service.

(1) Positions of a project nature involved in international technical assistance activities. Service under this authority may not exceed 5 years on a single project for any individual unless delayed completion of a project justifies an extension up to but not exceeding 2 years.

(b) General.

(1) Temporary positions of professional Research Scientists, GS-15 or below, in the Agricultural Research Service, Economic Research Service, and the Forest Service, when such positions are established to support the Research Associateship Program and are filled by persons having a doctoral degree in an appropriate field of study for research activities of mutual interest to appointees and the agency. Appointments are limited to proposals approved by the appropriate Administrator. Appointments may be made for initial periods not to exceed 2 years and may be extended for up to 2 additional years. Extensions beyond 4 years, up to a maximum of 2 additional years, may be granted, but only in very rare and unusual circumstances, as determined by the Human Resources Officer for the Research, Education, and Economics Mission Area, or the Human Resources Officer, Forest Service, Forest Service.

(2) Not to exceed 55 Executive Director positions, GM-301-14/15, with the State Rural Development Councils in support of the Presidential Rural Development Initiative.

Section 213.3214 Department of Commerce

(a) Bureau of the Census.

(1) (Reserved).

(2) Not to exceed 50 Community Services Specialist positions at the equivalent of GS-5 through GS-12.

(3) (Reserved).

(b)-(c) (Reserved).

(d) National Telecommunications and Information Administration.

(1) Not to exceed 10 positions of Telecommunications Policy Analysts, grades GS-11 through 15. Employment under this authority may not exceed 2 years.

Section 213.3215 Department of Labor

(a) Chair and a maximum of four additional Members, Administrative Review Board.

(b) (Reserved).

(c) Bureau of International Labor Affairs.

(1) Positions in the Office of Foreign Relations, which are paid by outside funding sources under contracts for specific international labor market technical assistance projects. Appointments under this authority may not be extended beyond the expiration date of the project.

Section 213.3217 Department of Education

(a) Seventy-five positions, not to exceed GS-13, of a professional or analytical nature when filled by persons, other than college faculty members or candidates working toward college degrees, who are participating in mid-career development programs authorized by Federal statute or regulation, or sponsored by private nonprofit organizations, when a period of work experience is a requirement for completion of an organized study program. Employment under this authority shall not exceed 1 year.

(b) Fifty positions, GS-7 through GS-11, concerned with advising on education policies, practices, and procedures under unusual and abnormal conditions. Persons employed under this provision must be bona fide elementary school and high school teachers. Appointments under this authority may be made for a period of not to exceed 1 year, and may, with the prior approval of the Office of Personnel Management, be extended for an additional period of 1 year.

Section 213.3227 Department of Veterans Affairs

(a) Not to exceed 800 principal investigatory, scientific, professional, and technical positions at grades GS-11 and above in the medical research program.

(b) Not to exceed 25 Criminal Investigator (Undercover) positions, GS-1811, in grades 5 through 12, conducting undercover investigations in the Veterans Health Administration supervised by the VA, Office of Inspector General. Initial appointments shall be greater than 1 year, but not to exceed 4 years and may be extended indefinitely in 1-year increments.

Section 213.3236 U.S. Soldiers' and Airmen's Home

(a) (Reserved).

(b) Director, Health Care Services; Director, Member Services; Director, Logistics; and Director, Plans and Programs.

Section 213.3240 National Archives and Records Administration

(a) Executive Director, National Historical Publications and Records Commission.

Section 213.3248 National Aeronautics and Space Administration

(a) Not to exceed 40 positions of Command Pilot, Pilot, and Mission Specialist candidates at grades GS-7 through 15 in the Space Shuttle Astronaut program. Employment under this authority may not exceed 3 years.

Section 213.3255 Social Security Administration

(a) Temporary and time-limited positions in the Ticket to Work and Work Incentives Advisory Panel. No employees may be appointed after November 17, 2007.

Section 213.3274 Smithsonian Institution

(a) (Reserved).

(b) Freer Gallery of Art.

(1) Not to exceed four positions of Oriental Art Restoration Specialist at grades GS-9 through GS-15.

Section 213.3276 Appalachian Regional Commission

(a) Two Program Coordinators.

Section 213.3278 Armed Forces Retirement Home

(a) Naval Home, Gulfport, Mississippi.

(1) One Resource Management Officer position and one Public Works Officer position, GS/GM-15 and below.

Section 213.3282 National Foundation on the Arts and the Humanities

(a) (Reserved).

(b) National Endowment for the Humanities.

(1) Professional positions at grades GS-11 through GS-15 engaged in the review, evaluation, and administration of grants supporting scholarship, education, and public programs in the humanities, the duties of which require in-depth knowledge of a discipline of the humanities.

Section 213.3291 Office of Personnel Management

(a) Not to exceed eight positions of Associate Director at the Executive Seminar Centers at grades GS-13 and GS-14. Appointments may be made for any period up to 3 years and may be extended without prior approval for any individual. Not more than half of the authorized faculty positions at any one Executive Seminar Center may be filled under this authority.

(b) Twelve positions of faculty members at grades GS-13 through 15, at the Federal Executive Institute. Initial appointments under this authority may be made for any period up to 3 years and may be extended in 1-, 2-, or 3-year increments indefinitely thereafter.

Schedule C

Section 213.3303 Executive Office of the President

Council of Economic Advisers

CEGS60001 Confidential Assistant to the Chairman, Council of Economic Advisers

CEGS60004 Confidential Assistant to the Chairman, Council of Economic Advisers

CEGS60005 Administrative Operations Assistant to the Member (Council for Economic Advisers)

Council on Environmental Quality

EQGS00011 Associate Director for Global Environmental Affairs to the Chairman (Council on Environmental Quality)

Office of Management and Budget

BOGS00022 Confidential Assistant to the Executive Associate Director

BOGS00039 Legislative Analyst to the Associate Director for Legislative Affairs

BOGS00085 Special Assistant to the Administrator to the Administrator, E-Government and Information Technology

BOGS00151 Deputy Press Secretary to the Associate Director, Strategic Planning and Communications

BOGS00153 Special Assistant to the Director Office of Management and Budget

BOGS00160 Press Secretary to the Associate Director, Strategic Planning and Communications

BOGS60010 Counselor to the Controller to the Controller, Office of Federal Financial Management

BOGS60015 Communications Writer to the Associate Director for Strategic Planning and Communications

BOGS60020 Special Assistant to the Administrator Office of Federal Procurement Policy

BOGS60025 Confidential Assistant to the Deputy Director for Management to the Deputy Director for Management

BOGS60026 Confidential Assistant to the Associate Director for General Government Programs

BOGS60027 Confidential Assistant to the Administrator, Office of Information and Regulatory Affairs

BOGS60030 Confidential Assistant to the Deputy Director Office of Management and Budget

BOGS60031 Confidential Assistant to the Deputy Director Office of Management and Budget

BOGS60034 Confidential Assistant to the Controller, Office of Federal Financial Management

BOGS60141 Deputy to the Associate Director for Legislative Affairs (Senate) to the Executive Associate Director

BOGS60143 Deputy to the Associate Director for Legislative Affairs (House) to the Executive Associate Director

BOGS60148 Confidential Assistant to the Associate Director for National Security and International Affairs

Office of National Drug Control Policy

QQGS00013 Project Coordinator to the Chief of Staff

QQGS00015 Associate Deputy Director, State and Local Affairs to the Deputy Director for State and Local Affairs

QQGS00018 Administrative Specialist to Associate Director to the Associate Director, Public Affairs

QQGS00028 White House Liaison and Intergovernmental Affairs Specialist to the Chief of Staff

QQGS00029 Legislative Staff Assistant (Office Automation) to the Associate Director, Legislative Affairs

QQGS00030 Public Affairs Assistant to the Associate Director, Public Affairs

QQGS00031 Legislative Analyst to the Associate Director, Legislative Affairs

QQGS00032 Program Assistant (Office Automation) to the Project Coordinator

QQGS00034 Policy Analyst to the Associate Deputy Director, State and Local Affairs

QQGS00036 Public Affairs Specialist to the Associate Director, Public Affairs

QQGS00037 Public Affairs Specialist (Press Secretary) to the Associate Director, Public Affairs

QQGS00040 Legislative Analyst to the Associate Director, Legislative Affairs

QQGS00084 Public Affairs Specialist (Events Coordinator) to the Press Secretary (Assistant Director)

QQGS00085 Special Assistant to the Deputy Director for Demand Reduction to the Director

QQGS60001 Special Assistant to the Director to the Director

QQGS60006 Special Assistant to the Director

QQGS60007 Special Assistant to the Director

Office of the United States Trade Representative

TNGS00016 Public Affairs Specialist to the Chief of Staff

TNGS00017 Director of Chief Operations to the United States Trade Representative

TNGS00071 Deputy Assistant U.S. Trade Representative for Congressional Affairs to the Chief of Staff

TNGS60019 Special Textile Negotiator to the United States Trade Representative

Official Residence of the Vice President

RVGS00004 Deputy Social Secretary to the Assistant to the Vice President and Deputy Chief of Staff

Office of Science and Technology Policy

TSGS60005 Executive Assistant for Policy and Intergovernmental Affairs to the Associate Director, Science

TSGS60006 Assistant Associate Director for Telecommunications and Information Technology to the Associate Director, Science

TSGS60032 Assistant to the Director for Legislative Affairs to the Chief of Staff and General Counsel

TSGS60033 Confidential Assistant to the Director and the Chief of Staff to the Chief of Staff and General Counsel

TSGS60035 Confidential Assistant to the Associate Director for Science to the Associate Director, Science

TSGS60036 Confidential Assistant to the Associate Director for Technology to the Associate Director, Technology

Section 213.3304 Department of State

DSGS00425 Foreign Affairs Officer to the Assistant Secretary Bureau of Political-Military Affairs

DSGS60119 Special Advisor to the Assistant Secretary for East Asian and Pacific Affairs

DSGS60152 Supervisory Foreign Affairs Officer to the Under Secretary for Global Affairs

DSGS60156 Confidential Assistant to the Secretary of State

DSGS60161 Staff Assistant to the Ambassador-At-Large (War Crimes)

DSGS60166 Attorney Advisor to the Deputy Assistant Secretary for Equal Employ Opportunity

DSGS60194 Senior Advisor to the Under Secretary for Arms Control and Security Affairs

DSGS60201 Staff Assistant to the Under Secretary for Global Affairs

DSGS60267 Foreign Affairs Officer to the Principal Deputy Assistant Secretary

DSGS60370 Program Officer to the Principal Deputy Assistant Secretary

DSGS60389 Senior Advisor to the Assistant Secretary

DSGS60394 Legislative Management Officer to the Assistant Secretary for Legislative and Intergovernmental Affairs

DSGS60395 Director, Art in Embassies Program to the Deputy Assistant Secretary

DSGS60410 Senior Advisor to the Assistant Secretary for Western Hemispheric Affairs

DSGS60417 Supervisory Foreign Affairs Officer to the Under Secretary for Global Affairs

DSGS60420 Special Assistant to the Assistant Secretary

DSGS60430 Legislative Management Officer to the Assistant Secretary for Legislative and Intergovernmental Affairs

DSGS60434 Special Assistant to the Senior Advisor to the Secretary and White House Liaison

DSGS60439 Legislative Management Officer to the Assistant Secretary for Legislative and Intergovernmental Affairs

DSGS60445 Special Advisor to the Assistant Secretary for Democracy Human Rights and Labor

DSGS60450 Special Assistant to the Under Secretary for Public Diplomacy and Public Affairs

DSGS60454 Member, Policy Planning Staff to the Director, Policy Planning Staff

DSGS60486 Foreign Affairs Officer to the Assistant Secretary for Democracy Human Rights and Labor

DSGS60499 Senior Advisor to the Assistant Secretary

DSGS60500 Foreign Affairs Officer to the Assistant Secretary for European Affairs

DSGS60505 Resource, Plans and Policy Advisor to the Chief Financial Officer

DSGS60506 Special Assistant to the Assistant Secretary for Public Affairs

DSGS60508 Special Assistant to the Under Secretary for Arms Control and Security Affairs

DSGS60512 Special Assistant to the Under Secretary for Economic Business and Agricultural Affairs

DSGS60520 Director, Office of Public Liaison to the Assistant Secretary for Public Affairs

DSGS60552 Public Affairs Specialist to the Assistant Secretary for Public Affairs

DSGS60567 Senior Advisor to the Assistant Secretary for Near Eastern and South Asian Affairs

DSGS60707 Executive Director to the Under Secretary for Arms Control and Security Affairs

DSGS60711 Staff Assistant to the Deputy Ambassador-At-Large for War Crimes

DSGS60712 Special Advisor to the Assistant Legal Adviser for African Affairs

DSGS60715 Special Assistant to the Under Secretary for Arms Control and Security Affairs

DSGS60719 Senior Advisor to the Comptroller

DSGS60723 Senior Advisor to the Assistant Secretary for Western Hemispheric Affairs

DSGS60724 Special Assistant to the Director Office Resource Management Office of Foreign Buildings Operations

DSGS60725 Press Officer to the Assistant Secretary for Public Affairs

DSGS60734 Public Affairs Specialist to the Assistant Secretary for Public Affairs

DSGS60736 Staff Assistant to the Assistant Secretary, Bureau of Resource Management

DSGS60737 Special Assistant to the Legal Adviser

DSGS60741 Special Assistant to the Under Secretary for Arms Control and Security Affairs

DSGS60744 Special Assistant to the Under Secretary for Arms Control and Security Affairs

DSGS60745 Special Assistant to the Assistant Secretary, Bureau of Arms Controls

DSGS60749 Special Assistant to the Deputy Assistant Secretary, Bureau for Education and Cultural Affairs

DSGS60750 Special Assistant to the Under Secretary for Public Diplomacy and Public Affairs

DSGS60751 Special Assistant to the Under Secretary for Public Diplomacy and Public Affairs

DSGS60752 Special Assistant to the Under Secretary for Arms Control and Security Affairs

DSGS60755 Special Assistant to the Assistant Secretary, Bureau of International Narcotics and Law Enforcement Affairs

DSGS60757 Foreign Affairs Officer to the Assistant Secretary, Bureau of Arms Control

DSGS60758 Special Assistant to the Under Secretary for Arms Control and Security Affairs

DSGS60759 Staff Assistant to the Director, Foreign Policy Planning Plan

DSGS60761 Special Advisor to the Assistant Secretary for International Organizational Affairs

DSGS60762 Special Assistant to the Assistant Secretary for Public Affairs

DSGS60763 Senior Advisor to the Assistant Secretary for Western Hemispheric Affairs

DSGS60764 Foreign Affairs Officer to the Assistant Secretary for East Asian and Pacific Affairs

DSGS60765 Public Affairs Specialist to the Assistant Secretary for Public Affairs

DSGS60767 Special Assistant to the Assistant Secretary Bureau of Political-Military Affairs

DSGS60768 Special Assistant to the Assistant Secretary for Economic and Business Affairs

DSGS60769 Special Assistant to the Under Secretary for Management

DSGS60770 Foreign Affairs Officer to the Assistant Secretary for International Organizational Affairs

DSGS60771 Coordinator for Intergovernmental Affairs to the Assistant Secretary for Public Affairs

DSGS60772 Senior Advisor to the Assistant Secretary for Western Hemispheric Affairs

DSGS60773 Special Assistant to the Assistant Secretary, Bureau of Verification and Compliance

DSGS60774 Special Assistant to the Coordinator

DSGS60776 Special Assistant to the Coordinator

DSGS60777 Special Assistant to the Under Secretary for Public Diplomacy and Public Affairs

DSGS60778 Foreign Affairs Officer to the Assistant Secretary for Near Eastern and South Asian Affairs

DSGS60781 Public Affairs Specialist to the Assistant Secretary for Public Affairs

DSGS60782 Special Assistant to the Assistant Secretary for Western Affairs to the Assistant Secretary for African Affairs

DSGS60784 Protocol Assistant to the Chief of Protocol

DSGS60785 Foreign Affairs Officer to the Assistant Secretary for International Organizational Affairs

DSGS60786 Senior Advisor to the Coordinator

DSGS60787 Foreign Affairs Officer to the Assistant Secretary for Western Hemispheric Affairs

DSGS60789 Senior Advisor to the Under Secretary for Public Diplomacy and Public Affairs

DSGS60790 Special Assistant to the Assistant Secretary, Economic and Agricultural Affairs

DSGS60793 Chief, Voluntary Visitors Division to the Assistant Secretary, Bureau for Education and Cultural Affairs

DSGS60794 Special Assistant to the Assistant Secretary for Public Affairs

DSGS60795 Member, Policy Planning Staff to the Director, Policy Planning Staff

DSGS60796 Program Analyst to the Assistant Secretary, Bureau of Education Cultural Affairs

DSGS60798 Legislative Management Officer to the Assistant Secretary for Legislative and Intergovernmental Affairs

DSGS60799 Foreign Affairs Officer to the Under Secretary for Global Affairs

DSGS60801 Senior Advisor to the Assistant Secretary for Democracy Human Rights and Labor

DSGS60802 Writer-Editor to the Assistant Secretary Oceans, International Environment and Science Affairs

DSGS60803 Public Affairs Specialist to the Office Director, Office to Monitor and Combat Trafficking In Persons

DSGS60804 Staff Assistant to the Deputy Assistant Secretary for Equal Employ Opportunity

DSGS60806 Protocol Officer (Visits) to the Supervisory Protocol Officer (Visits)

DSGS60808 Protocol Officer to the Deputy Chief of Protocol

DSGS60809 Legislative Management Officer to the Assistant Secretary for Legislative and Intergovernmental Affairs

DSGS60810 Staff Assistant to the Secretary of State

DSGS60812 Staff Assistant to the Senior Advisor to the Secretary and White House Liaison

DSGS60815 Special Assistant to the Deputy Secretary

DSGS60816 Special Assistant to the Deputy Secretary

DSGS60817 Legislative Management Officer to the Assistant Secretary for Legislative and Intergovernmental Affairs

DSGS60820 Public Affairs Specialist to the Assistant Secretary for Public Affairs

DSGS60821 Staff Assistant to the Deputy Secretary

DSGS60943 Special Assistant to the Assistant Secretary for Public Affairs

DSGS60944 Protocol Assistant (Gifts) to the Chief of Protocol

DSGS60945 Foreign Affairs Officer (Visits) to the Chief of Protocol

DSGS60948 Legislative Management Officer to the Assistant Secretary for Legislative and Intergovernmental Affairs

DSGS60950 Foreign Affairs Officer to the Assistant Secretary for Western Hemispheric Affairs

DSGS60951 Congressional Affairs Manager to the Assistant Secretary for International Organizational Affairs

DSGS60952 Public Affairs Specialist to the HIV/AIDS Coordinator

DSGS60953 Foreign Affairs Officer to the Deputy Assistant Secretary

DSGS60954 Special Assistant to the Chief of Protocol

DSGS60957 Supervisory Protocol Officer (Visits) to the Deputy Chief of Protocol

DSGS60958 Staff Assistant to the Chief Financial Officer

DSGS60959 Staff Assistant to the Deputy Secretary

DSGS60960 Senior Advisor to the Assistant Secretary for International Organizational Affairs

DSGS60961 Public Affairs Specialist to the Assistant Secretary for Public Affairs

DSGS60962 Legislative Management Officer to the Assistant Secretary for Legislative and Intergovernmental Affairs

DSGS60963 Legislative Management Officer to the Assistant Secretary for Legislative and Intergovernmental Affairs

DSGS60964 Legislative Management Officer to the Assistant Secretary for Legislative and Intergovernmental Affairs

DSGS60965 Foreign Affairs Officer to the Deputy Assistant Secretary

DSGS60966 Staff Assistant to the Assistant Secretary for Public Affairs

DSGS60968 Special Assistant to the Assistant Secretary for Public Affairs

DSGS60970 Special Assistant to the Assistant Secretary for Public Affairs

DSGS60971 Public Affairs Specialist to the Assistant Secretary for Public Affairs

Section 213.3305 Department of the Treasury

DYGS00250 Director, Public Affairs to the Deputy Assistant Secretary (Public Affairs)

DYGS00321 Financial Analyst to the Director, Office of Specialized Development Institutions

DYGS00328 Deputy Assistant Secretary (Policy Coordination) to the Assistant Secretary (Economic Policy)

DYGS00356 Director, Critical Infrastructure Protection and Compliance Policy to the Deputy Assistant Secretary (Critical Infrastructure Protection and Compliance Policy)

DYGS00375 Director of Legislative and Governmental Affairs to the Director of the Mint

DYGS00377 Special Assistant to the White House Liaison

DYGS00380 Deputy to the Assistant Secretary (Legislative Affairs) to the Assistant Secretary (Deputy Under Secretary) for Legislative Affairs

DYGS00400 Special Assistant to the Assistant Secretary (Management) and Chief Financial Officer

DYGS00420 Special Assistant to the Assistant Secretary (Deputy Under Secretary) Legislative Affairs

DYGS00423 Special Assistant to the Secretary.

DYGS00425 Special Assistant to the Assistant Secretary (Deputy Under Secretary) International Affairs

DYGS00429 Executive Assistant to the Secretary

DYGS00433 Director of Public and Legislative Affairs to the Director Community Development Financial Institutions

DYGS00434 Special Assistant to the Deputy Chief of Staff

DYGS00436 Public Affairs Specialist to the Deputy Assistant Secretary (Public Affairs)

DYGS00437 Special Assistant to the Deputy Assistant Secretary and Chief Human Capital Officer

DYGS00439 Executive Secretary to the Chief of Staff

DYGS00440 Public Affairs Specialist to the Director, Public Affairs

DYGS00441 Director of Outreach to the Deputy Assistant Secretary

DYGS00442 Special Assistant to the Deputy Assistant Secretary (Public Liaison, Strategic Planning and Business Development)

DYGS00443 Special Assistant to the Assistant Secretary, Terrorist Financing

DYGS00444 Special Assistant to the Deputy Assistant Secretary (Public Liaison, Strategic Planning and Business Development)

DYGS00445 Senior Advisor to the Secretary (Scheduling) to the Chief of Staff

DYGS00446 Senior Advisor to the Assistant Secretary (Deputy Under Secretary) Legislative Affairs

DYGS00447 Special Advisor to the Under Secretary for Enforcement

DYGS00448 Special Assistant to the Deputy Assistant Secretary

DYGS00450 Special Assistant to the Director, Public Affairs

DYGS00451 Policy Analyst to the Assistant Secretary—Terrorist Financing

DYGS00452 Special Assistant to the Director, Public Affairs

DYGS00453 Staff Assistant to the Assistant Secretary (Public Affairs)

DYGS00454 Director, Travel Operations to the Assistant Secretary (Management) and Chief Financial Officer

DYGS00456 Special Assistant to the Deputy General Counsel

DYGS00457 Senior Advisor to the Chief of Staff

DYGS00458 Special Assistant to the Treasurer to the Treasurer of the United States

DYGS60230 Public Affairs Specialist to the Director, Public Affairs

DYGS60250 Director, Public Affairs to the Deputy Assistant Secretary (Public Affairs)

DYGS60277 Senior Writer to the Assistant Secretary (Public Affairs)

DYGS60362 Special Assistant to the Assistant Secretary (Financial Institutions)

DYGS60381 Special Assistant to the Assistant Secretary (Deputy Under Secretary) Legislative Affairs

DYGS60390 Senior Advisor to the Assistant Secretary (Management) and Chief Financial Officer

DYGS60396 Senior Advisor to the Deputy Assistant Secretary (Public Liaison) to the Deputy Assistant Secretary (Public Liaison)

DYGS60405 Special Assistant to the Assistant Secretary (Deputy Under Secretary) Legislative Affairs

DYGS60407 Senior Advisor to the Assistant Secretary for Financial Markets

DYGS60417 Senior Advisor to the Deputy Assistant Secretary (Government Financial Policy)

DYGS60418 Special Assistant to the Executive Secretary

DYGS60421 Special Assistant to the Deputy Assistant Secretary for Legislative Affairs

DYGS61059 Tax Legislative Advisor to the Assistant Secretary (Tax Policy)

Section 213.3306 Office of the Secretary of Defense

DDGS00673 Staff Assistant to the Deputy Under Secretary of Defense (Near East/South Asian Affairs)

DDGS00682 Staff Assistant to the Deputy Assistant Secretary of Defense (Asia and Pacific)

DDGS00708 Personal and Confidential Assistant to the Assistant Secretary of Defense (International Security Affairs)

DDGS00714 Special Assistant to the Under Secretary of Defense (Policy) to the Under Secretary of Defense for Policy

DDGS00749 Staff Assistant to the Assistant Secretary of Defense (International Security Affairs)

DDGS00770 Staff Assistant to the Principal Deputy Assistant Secretary of Defense (International Security Affairs)

DDGS00771 Staff Assistant to the Principal Deputy Assistant Secretary of Defense (International Security Affairs)

DDGS00779 Staff Assistant to the Principal Deputy Assistant Secretary of Defense (International Security Affairs)

DDGS00788 Staff Assistant to the Principal Deputy Assistant Secretary of Defense (International Security Affairs)

DDGS16514 Personal and Confidential Assistant to the Secretary of Defense

DDGS16561 Special Assistant to the Director of Defense Research and Engineering

DDGS16649 Special Assistant to the Assistant Deputy Comptroller (Program/Budget)

DDGS16660 Director of Assessments to the Deputy Under Secretary of Defense (International Technology Security)

DDGS16667 Public Affairs Specialist to the Deputy Assistant Secretary of Defense for Public Affairs (Communications)

DDGS16668 Special Assistant to the Assistant Secretary of Defense (Public Affairs) to DDGS16675 Personal and Confidential Assistant to the Assistant Secretary of Defense (Reserve Affairs)

DDGS16692 Confidential Assistant to the Secretary of Defense

DDGS16694 Special Assistant to the Principal Deputy Assistant Secretary of Defense (Legal Affairs)

DDGS16709 Defense Fellow to the Special Assistant to the Secretary of Defense for White House Liaison

DDGS16718 Public Affairs Specialist to the Assistant Secretary of Defense Public Affairs

DDGS16737 Defense Fellow to the Special Assistant to the Secretary of Defense for White House Liaison

DDGS16740 Confidential Assistant to the Secretary of Defense

DDGS16758 Deputy White House Liaison to the Special Assistant to the Secretary of Defense for White House Liaison

DDGS16774 Speechwriter to the Special Advisor to the Deputy Secretary of Defense for Communications Strategy

DDGS16777 Defense Fellow to the Director of Administration and Management/Director of Washington Headquarters Service

DDGS16778 Staff Assistant to the Deputy Assistant Secretary of Defense (Negotiations Policy)

DDGS16780 Special Assistant to the Assistant Secretary of Defense (Legislative Affairs)

DDGS16783 Special Assistant to the Assistant Secretary of Defense (Legislative Affairs)

DDGS16787 Defense Fellow to the Special Assistant to the Secretary of Defense for White House Liaison

DDGS16791 Public Affairs Specialist to the Public Affairs Specialist

DDGS16796 Staff Assistant to the Deputy Assistant Secretary of Defense (Forces Policy)

DDGS16797 Staff Assistant to the Deputy Under Secretary of Defense (Near East/South Asian Affairs)

DDGS16800 Researcher Assistant to the Special Assistant for Speechwriting

DDGS16801 Defense Fellow to the Special Assistant to the Secretary of Defense for White House Liaison

DDGS16802 Special Assistant to the Deputy Under Secretary of Defense (International Technology Security)

DDGS16803 Staff Assistant to the Deputy Under Secretary of Defense (Near East/South Asian Affairs)

DDGS16806 Staff Assistant to the Special Assistant to the Secretary of Defense for White House Liaison

DDGS16807 Defense Fellow to the Special Assistant to the Secretary of Defense for White House Liaison

DDGS16808 Speechwriter to the Principal Deputy Assistant Secretary of Defense for Public Affairs

DDGS16809 Staff Specialist to the Under Secretary of Defense (Acquisition, Technology, and Logistics)

DDGS16810 Confidential Assistant to the Deputy Under Secretary of Defense (Personnel and Readiness)

DDGS16811 Special Assistant to the Director, Small and Disadvantaged Business Utilities

DDGS16812 Staff Assistant to the Deputy Assistant Secretary of Defense (Eurasia)

DDGS16813 Staff Assistant to the Deputy Assistant Secretary of Defense (Eurasia)

DDGS16814 Staff Assistant to the Deputy Assistant Secretary of Defense (Eurasia)

DDGS16816 Defense Fellow to the Special Assistant to the Secretary of Defense for White House Liaison

DDGS16817 Special Assistant to the Principal Deputy Assistant Secretary of Defense (Legal Affairs)

DDGS16818 Special Assistant to the Deputy Assistant Secretary of Defense (Military Community and Family Policy)

DDGS16821 Speechwriter to the Principal Deputy Assistant Secretary of Defense for Public Affairs

DDGS16823 Public Affairs Specialist to the Deputy Assistant Secretary of Defense (Strategic Communications Planning)

DDGS16825 Personal and Confidential Assistant to the Principal Deputy Under Secretary of Defense (Policy)

DDGS16828 Protocol Officer to the Special Assistant to the Secretary of Defense for Protocol

DDGS16829 Defense Fellow to the Special Assistant to the Secretary of Defense for White House Liaison

DDGS16830 Personal and Confidential Assistant to the Assistant Secretary of Defense (Special Operations/Low Intensity Conflict)

DDGS16831 Research Assistant to the Deputy Assistant Secretary of Defense (Strategic Communications Planning)

DDGS16832 Staff Assistant to the Deputy Assistant Secretary of Defense (Negotiations Policy)

DDGS16834 Staff Assistant to the Principal Deputy Under Secretary of Defense for Policy

DDGS16836 Defense Fellow to the Special Assistant to the Secretary of Defense for White House Liaison

DDGS16837 Defense Fellow to the Special Assistant to the Secretary of Defense for White House Liaison

DDGS16839 Supervisory Public Affairs Specialist to the Deputy Assistant Secretary of Defense (Internal Communications)

DDGS16842 Staff Assistant to the Deputy Assistant Secretary Defense (Special Operations and Combating Terrorism)

DDGS16844 Special Assistant to the Under Secretary of Defense (Comptroller) and Principal Deputy Under Secretary of Defense (Management Reform)

DDGS16848 Defense Fellow to the Special Assistant to the Secretary of Defense for White House Liaison

DDGS16849 Program Support Specialist to the Deputy Assistant Secretary of Defense (Internal Communications)

DDGS16851 Personal and Confidential Assistant to the Under Secretary of Defense (Comptroller)

DDGS16852 Special Assistant to the Under Secretary of Defense (Comptroller)

DDGS16853 Research Assistant to the Speechwriter

DDGS16854 Defense Fellow to the Special Assistant to the Secretary of Defense for Protocol

DDGS16856 Defense Fellow to the Special Assistant to the Secretary of Defense for White House Liaison

DDGS16860 Speechwriter to the Speechwriter

DDGS16861 Defense Fellow to the Special Assistant to the Secretary of Defense for White House Liaison

DDGS16862 Defense Fellow to the Special Assistant to the Secretary of Defense for White House Liaison

DDGS16863 Defense Fellow to the Special Assistant to the Secretary of Defense for White House Liaison

DDGS16864 Executive Assistant to the President's Physician to the Special Assistant to the Secretary of Defense for White House Liaison

DDGS16865 Staff Assistant to the Special Assistant to the Secretary of Defense for White House Liaison

DDGS16866 Staff Assistant to the Assistant Secretary of Defense (Health Affairs)

DDGS16867 Defense Fellow to the Special Assistant to the Secretary of Defense for White House Liaison

DDGS16868 Defense Fellow to the Special Assistant to the Secretary of Defense for White House Liaison

DDGS16869 Staff Assistant to the Executive Director Employer Support of the Guard and Reserve

DDGS16871 Defense Fellow to the Special Assistant to the Secretary of Defense for White House Liaison

DDGS16872 Special Assistant to the Assistant Secretary of Defense (International Secretary Policy)

DDGS16876 Staff Assistant to the Deputy Assistant Secretary of Defense (Detainee Affairs)

DDGS16878 Defense Fellow to the Special Assistant to the Secretary of Defense for White House Liaison

DDGS16879 Defense Fellow to the Special Assistant to the Secretary of Defense for White House Liaison

DDGS60033 Personal Secretary to the Deputy Secretary of Defense

DDGS60273 Civilian Executive Assistant to the Special Assistant to the Secretary of Defense for White House Liaison

DDGS60274 Staff Assistant to the Special Assistant to the Secretary of Defense for White House Liaison

DDGS60305 Personal and Confidential Assistant to the Under Secretary of Defense (Personnel and Readiness)

DDGS60312 Director, Cooperative Threat Reduction to the Assistant Secretary of Defense (International Secretary Policy)

DDGS60314 Coordinator of Reserve Integration to the Principal Deputy Assistant Secretary of Defense (Reserve Affairs)

DDGS60319 Confidential Assistant to the Deputy Secretary of Defense

DDGS60333 Speechwriter to the Special Assistant for Speechwriting

DDGS60368 Personal and Confidential Assistant to the Assistant Secretary of Defense (Legislative Affairs)

DDGS60369 Executive Assistant to the Director of Force Transformation

DDGS60454 Special Assistant to the Director of Net Assessment

DDGS60471 Public Affairs Specialist to the Deputy Assistant Secretary of Defense (Strategic Communications Planning)

DDGS60475 Staff Assistant to the Deputy Assistant Secretary of Defense (Forces Policy)

DDGS60520 Special Assistant to the Deputy Assistant Secretary of Defense (Prisoners of War/Military Police)/Director, Prisoners of War Missing Persons Office

DDGS60611 Personal and Confidential Assistant to the Secretary of Defense

DDGS60680 Confidential Assistant to the Deputy Secretary of Defense

DDGS60686 Personal and Confidential Assistant to the General Counsel

Section 213.3307 Department of the Army

DWGS00077 Confidential Assistant to the Assistant Secretary of the Army (Civil Works)

DWGS00078 Special Assistant to Deputy Assistant Secretary of the Army for Privatization and Partnerships

DWGS00079 Confidential Assistant to the Principal Deputy Assistant Secretary of the Army (Manpower and Reserve Affairs)/Deputy Assistant Secretary (Training, Readiness and Mobilization)

DWGS00081 Assistant for Water Resources Policy to the Deputy Assistant Secretary of the Army (Legislation)

DWGS00083 Personal and Confidential Assistant to the Principal Deputy Assistant Secretary of the Army (Acquisition, Logistics and Technology) and Director for Iraq Reconstruction and Program Management

DWGS60002 Special Assistant to the Secretary of the Army

DWGS60008 Special Assistant to the Assistant Secretary of the Army (Installations, Logistics and Environment)

DWGS60010 Special Assistant to the Army General Counsel

DWGS60014 Confidential Assistant to the General Counsel

DWGS60017 Special Assistant to the Army General Counsel

DWGS60053 Personal & Confidential Assistant to the Principal Deputy Assistant Secretary of the Army (Financial Management and Comptroller)/(Controls)

DWGS60076 Special Assistant to the Assistant Secretary of the Army (Civil Works)

Section 213.3308 Department of the Navy

DNGS00064 Confidential Assistant to the Assistant Secretary of Navy (Installations and Environment)

DNGS00070 Confidential Assistant to the Assistant Secretary of the Navy (Research Development and Acquisition)

DNGS60066 Staff Assistant to the Secretary of the Navy

DNGS60069 Staff Assistant to the Under Secretary of the Navy

DNGS60071 Residence Manager and Social Secretary to the Vice President to the Secretary of the Navy

Section 213.3309 Department of the Air Force

DNGS60074 Confidential Staff Assistant to the Deputy Assistant Secretary of the Navy (Financial Management and Comptroller)

DFGS60007 Confidential Assistant to the Assistant Secretary (Financial Management and Comptroller)

DFGS60011 Personal and Confidential Assistant to the General Counsel

DFGS60012 Personal and Confidential Assistant to the General Counsel

DFGS60042 Special Assistant for Community Relations to the Director of Communication

DFGS60045 Budget Analyst to the Assistant Secretary (Financial Management and Comptroller)

Section 213.3310 Department of Justice

DJGS00019 Special Assistant to the Chairman

DJGS00020 Director, Office of Police Corps and Law Enforcement Education to the Assistant Attorney General for Justice Programs

DJGS00022 Research Assistant to the Director, Office of Public Affairs

DJGS00028 Director of Congressional Affairs to the Administrator, Drug Enforcement Administration

DJGS00031 Special Assistant to the Assistant Attorney General, Criminal Division

DJGS00034 Special Assistant to the Assistant Attorney General, Criminal Division

DJGS00035 Counsel (Senior Attorney) to the Administrator, Drug Enforcement Administration

DJGS00045 Deputy Director, Office for Victims of Crime to the Director Office for Victims of Crime

DJGS00048 Congressional Liaison Specialist to the Administrator, Drug Enforcement Administration

DJGS00049 Special Assistant to the Administrator of Juvenile Justice and Delinquency Prevention

DJGS00052 Chief of Staff to the Director, National Institute of Justice

DJGS00053 Special Assistant to the Director, Alcohol, Tobacco, Firearms, and Explosives

DJGS00055 Chief of Staff to the Assistant Attorney General (Legal Policy)

DJGS00058 Chief of Staff to the Assistant Attorney General for Justice Programs

DJGS00063 Project Safe Neighborhoods Coordinator to the Deputy Attorney General

DJGS00076 Public Affairs Specialist to the United States Attorney, Western District, Texas

DJGS00077 Secretary to the United States Attorney, Western District, Arkansas

DJGS00085 Speech Writer to the Director, Office of Public Affairs

DJGS00112 Assistant to the Attorney General

DJGS00117 Deputy Director, Office of Faith-Based and Community Initiatives to the Director, Office of Faith-Based and Community Initiatives

DJGS00123 Senior Counsel to the Director, Office of Public Affairs

DJGS00130 Counsel to the Assistant Attorney General

DJGS00138 Special Assistant to the Assistant Attorney General. Tax Division

DJGS00145 Executive Assistant to the Solicitor General to the Solicitor General

DJGS00151 Special Assistant to the Administrator, Drug Enforcement Administration

DJGS00154 Speechwriter to the Director, Office of Public Affairs

DJGS00163 Special Assistant to the Assistant Attorney General

DJGS00164 Counsel to the Assistant Attorney General

DJGS00166 Counselor to the Attorney General

DJGS00176 Public Affairs Specialist to the Director, Office of Public Affairs

DJGS00180 Staff Assistant to the Assistant Attorney General (Legal Policy)

DJGS00184 Special Assistant to the Deputy Attorney General

DJGS00189 Counsel to the Assistant Attorney General, Civil Division

DJGS00194 Senior Counsel to the Assistant Attorney General (Legal Policy)

DJGS00199 Special Counsel to the Assistant Attorney General, Criminal Division

DJGS00206 Counsel to the Director of the Violence Against Women Office

DJGS00208 Confidential Assistant to the Director, Office of Public Affairs

DJGS00213 Special Assistant to the Director, National Institute of Justice

DJGS00214 Special Assistant to the Director of the Bureau of Justice Assistance

DJGS00218 Special Assistant to the Assistant Attorney General for Justice Programs

DJGS00225 Special Assistant to the Director of the Violence Against Women Office

DJGS00235 Senior Advisor to the Director, Office of Public Affairs

DJGS00237 Press Assistant to the Director, Office of Public Affairs

DJGS00250 Assistant to the Attorney General for Scheduling and Advance to the Director of Scheduling and Advance

DJGS00258 Counsel to the Assistant Attorney General

DJGS00263 Law Clerk to the Assistant Attorney General (Legal Policy)

DJGS00265 Press Assistant to the Director, Office of Public Affairs

DJGS00266 Press Assistant to the Director, Office of Public Affairs

DJGS00268 Counsel to the Assistant Attorney General, Antitrust Division

DJGS00280 Special Assistant to the Assistant Attorney General (Legal Policy)

DJGS00302 Associate Director to the Director, Office of Intergovernmental and Public Liaison

DJGS00304 Associate Director to the Director, Office of Intergovernmental and Public Liaison

DJGS00306 Special Assistant to the Director, Office of Intergovernmental and Public Liaison

DJGS00320 Deputy Chief of Staff to the Chief of Staff, Criminal Division

DJGS00324 Special Assistant to the Assistant Attorney General (Legislative Affairs)

DJGS00330 Special Assistant to the Director, Office of Intergovernmental and Public Liaison

DJGS00332 Counsel to the Assistant Attorney General, Civil Rights Division

DJGS00333 Special Assistant to the Assistant Attorney General, Civil Rights Division

DJGS00335 Special Assistant to the Chief of Staff

DJGS00342 White House Liaison to the Attorney General

DJGS00362 Policy Advisor to the Assistant Attorney General for Justice Programs

DJGS00366 Special Assistant to the Attorney General

DJGS00369 Deputy White House Liaison to the Advisor to the Attorney General and White House Liaison

DJGS00374 Staff Assistant to the Director, Office of Public Affairs

DJGS00387 Deputy Director and Press Secretary to the Director, Office of Public Affairs

DJGS00390 Counsel to the Assistant Attorney General (Legal Counsel)

DJGS00391 Special Assistant to the Director, Executive Office for United States Attorneys

DJGS00400 Public Affairs Specialist to the United States Attorney, Western District, Virginia

DJGS00406 Public Affairs Specialist to the Director, Office of Public Affairs

DJGS00413 Executive Assistant to the United States Attorney, Executive Office for the United States Attorneys

DJGS00444 Associate Director to the Director, Office of Intergovernmental and Public Liaison

DJGS00445 Special Assistant to the Director, Community Relations Service

DJGS60014 Deputy Administrator to the Administrator Juvenile Justice Delinquency Prevention

DJGS60015 Deputy Director to the Director, National Institute of Justice

DJGS60023 Special Assistant for International Protocol to the Director, Office of International Affairs

DJGS60038 Secretary (Office Automation) to the United States Attorney, Massachusetts

DJGS60115 Special Assistant to the Director, Community Oriented Policing Services

DJGS60172 Secretary (Office Automation) to the United States Attorney, Western District, Louisiana

DJGS60173 Secretary (Office Automation) to the United States Attorney, Northern District, Oklahoma

DJGS60174 Secretary (Office Automation) to the United States Attorney, Wyoming

DJGS60245 Attorney Advisor (Special Assistant) to the Assistant Attorney General, Environment and Natural Resources

DJGS60246 Counsel to the Assistant Attorney General, Environment and Natural Resources

DJGS60256 Senior Counsel for Voting Reform to the Assistant Attorney General, Civil Rights Division

DJGS60267 Counsel to the Assistant Attorney General, Civil Rights Division

DJGS60277 Director of Scheduling and Advance to the Attorney General, Office of the Attorney General

DJGS60418 Secretary (Office Automation) to the United States Attorney, Nebraska

DJGS60420 Secretary (Office Automation) to the United States Attorney, Eastern District, Pennsylvania

DJGS60423 Secretary (Office Automation) to the United States Attorney, New Mexico

DJGS60427 Secretary (Office Automation) to the United States Attorney, New Hampshire

DJGS60429 Secretary (Office Automation) to the United States Attorney, Eastern District, Arkansas

DJGS60430 Secretary (Office Automation) to the United States Attorney, Kansas

DJGS60436 Secretary (Office Automation) to the United States Attorney, Southern District, Alabama

DJGS60437 Secretary (Office Automation) to the United States Attorney, Delaware

DJGS60448 Secretary (Office Automation) to the United States Attorney, Western District, Oklahoma

DJSL00290 Director, Alcohol, Tobacco, Firearms, and Explosives to the Attorney General

Section 213.3311 Department of Homeland Security

DMGS00050 Director of Speechwriting to the Assistant Secretary for Public Affairs

DMGS00051 Business Analyst to the Special Assistant, Assistant Secretary for the Private Sector

DMGS00057 Director, Local Affairs to the Director, State and Local Affairs

DMGS00066 Associate Executive Secretary (Internal Coordination) to the Executive Secretary

DMGS00101 Director/Executive Secretariat, Private Sector Advisory Committee to the Special Assistant, Office of the Assistant Secretary for the Private Sector

DMGS00109 Business Liaison to the Special Assistant, Office of the Assistant Secretary for the Private Sector

DMGS00118 Special Assistant for Administration to the Chief of Staff

DMGS00122 Director of Legislative Affairs for Science and Technology to the Assistant Secretary for Legislative Affairs

DMGS00126 Director of Communications for Bureau of Citizenship and Immigration Services to the Director of Internal Communications

DMGS00128 Director of Legislative Affairs for Information Analysis and Infrastructure Protection to the Assistant Secretary for Legislative Affairs

DMGS00130 Director of Special Projects to the Director of Internal Communications

DMGS00137 Special Assistant to the Under Secretary for Information Analysis and Infrastructure Protection

DMGS00141 Press Secretary to the Assistant Secretary for Public Affairs

DMGS00143 Senior Advance Representative to the Chief of Staff

DMGS00146 Policy Advisor to the Chief of Staff

DMGS00151 Business Liaison to the Special Assistant, Office of the Assistant Secretary for the Private Sector

DMGS00154 Legislative Policy Advisor to the Assistant Secretary for Border and Transportation Security Policy

DMGS00156 Plans and Operations Integration Officer to the Special Assistant, Office of the Assistant Secretary

DMGS00157 Business Liaison to the Special Assistant, Office of the Assistant Secretary for the Private Sector

DMGS00161 Director of Legislative Affairs for Emergency Preparedness and Response to the Chief of Staff

DMGS00166 Executive Assistant to the Director, State and Local Affairs

DMGS00172 Counsel to the General Counsel

DMGS00178 Legislative Assistant to the Assistant Secretary for Legislative Affairs

DMGS00183 Director of Public Liaison to the Assistant Secretary for Public Affairs

DMGS00186 Legislative Assistant to the Assistant Secretary for Legislative Affairs

DMGS00187 Director of Legislative Affairs for Border and Transportation Security to the Assistant Secretary for Legislative Affairs

DMGS00188 Director of Legislative Affairs for Secretarial Offices to the Assistant Secretary for Legislative Affairs

DMGS00189 Assistant Director for Legislative Affairs for Emergency Preparedness and Response to the Chief of Staff

DMGS00195 Policy Analyst to the Director, Office for Domestic Preparedness

DMGS00196 Executive Assistant to the Under Secretary for Science and Technology

DMGS00202 Director of Policy to the Chief of Staff

DMGS00203 Public Liaison Officer to the Director of Public Liaison

DMGS00205 Executive Assistant to the Assistant Secretary for Plans, Programs and Budgets

DMGS00206 Press Assistant to the Director of Internal Communications

DMGS00209 Public Liaison Officer to the Director of Public Liaison

DMGS00222 Director of Communications for Information Analysis and Infrastructure Protection to the Director of Internal Communications

DMGS00224 Policy Assistant for Emergency Preparedness and Response/Federal Emergency Management Agency to the Chief of Staff

DMGS00225 Press Secretary for Emergency Preparedness and Response/Federal Emergency Management Agency to the Chief of Staff

DMGS00228 Director of Communications, Office of Domestic Preparedness to the Chief of Staff and Senior Policy Advisor

DMGS00231 Director of Communications for Science and Technology to the Deputy Assistant Secretary for Public Affairs

DMGS00232 Press Assistant to the Director of Internal Communications

DMGS00235 Press Secretary for Bureau of Citizenship and Immigration to the Chief of Staff

DMGS00238 Executive Assistant to the Director, Office of Systems Engineering and Acquisition

DMGS00239 Director of Intergovernmental Affairs for Emergency Preparedness and Response to the Chief of Staff

DMGS00241 Assistant Director of Legislative Affairs for Science and Technology to the Assistant Secretary for Legislative Affairs

DMGS00242 Confidential Assistant to the Director, Local Affairs

DMGS00247 Senior Editor and Correspondence Analyst to the Executive Secretary

DMGS00250 Public Outreach Specialist to the Director of Special Projects

DMGS00253 Assistant Director of Legislative Affairs for Secretarial Offices to the Director of Legislative Affairs for Secretarial Offices

DMGS00254 Executive Assistant to the Assistant Secretary for Plans, Programs and Budgets

DMGS00257 Director, Trade Relations to the Commissioner, Customs and Border Protection

DMGS00258 Advance Representative to the Director of Scheduling and Advance

DMGS00259 Counter Narcotics Liaison to the Counter Narcotics Officer

DMGS00266 Director, Academe and Policy Research Senior Advisory Committee of the Homeland Security Advisory Council to the Executive Director, Homeland Security Advisory Council

DMGS00267 Associate Executive Secretary for External Coordination to the Executive Secretary

DMGS00268 Assistant Commissioner for Public Affairs to the Assistant Secretary for Public Affairs

DMGS00269 Special Assistant to the Under Secretary for Science and Technology

DMGS00271 Deputy Assistant Secretary for Border and Transportation Security Policy to the Assistant Secretary for Border and Transportation Security Policy

DMGS00274 Writer-Editor to the Executive Secretary

DMGS00278 Operations Officer to the Chief of Staff

DMGS00280 Staff Assistant to the Chief of Staff

DMGS00285 Policy Analyst to the Special Assistant, Office of the Assistant Secretary for Private Sector

DMGS00288 Special Assistant to the Chief Financial Officer (CFO)

DMGS00289 Program Analyst to the Special Assistant, Office of the Assistant Secretary for Private Sector

DMGS00290 Executive Officer to the Ombudsman

DMGS00291 Executive Assistant to the Special Assistant, Office of the Assistant Secretary for Private Sector

DMGS00292 Legislative Assistant to the Assistant Secretary for Legislative Affairs

DMGS00297 Assistant Director for Legislative Affairs for Border and Transportation Security to the Assistant Secretary for Legislative Affairs

DMGS00300 Special Assistant to the Assistant Secretary for Plans, Programs and Budgets

DMGS00302 Special Assistant to the Homeland Security Advisory Council to the Executive Director, Homeland Security Advisory Council

DMGS00303 Business Liaison to the Special Assistant, Office of the Assistant Secretary for Private Liaison

DMGS00304 Policy Analyst to the Director, Office of International Affairs

DMGS00305 Special Assistant to the Assistant Secretary, Immigration and Customs Enforcement

DMGS00307 Press Officer to the Assistant Commissioner for Public Affairs

DMGS00308 Legislative Assistant to the Director of Legislative Affairs for Information Analysis and Infrastructure Protection

DMGS00310 Correspondence Assistant to the Executive Secretary

DMGS00311 Special Assistant to the Chief of Staff, United States Custom and Border Protection

DMGS00313 Writer-Editor (Speechwriter) to the Director of Speechwriting

DMGS00314 Director of Immigration Policy to the Assistant Secretary for Border and Transportation Security Policy

DMGS00315 Confidential Assistant to the Secretary of the Department of Homeland Security

DMGS00316 Confidential Assistant to the Chief of Staff and Senior Policy Advisor

DMGS00317 Special Assistant to the Chief of Staff

DMGS00318 Policy Coordinator to the Executive Secretary

DMGS00319 Press Assistant to the Director of Communications, Office of Domestic Preparedness

DMGS00320 Policy Analyst to the Privacy Officer

DMGS00323 Staff Assistant to the Under Secretary for Management

DMGS00324 Special Assistant to the Director, State and Local Affairs

DMGS00325 Public Affairs Officer to the Deputy Assistant Secretary for Public Affairs

DMGS00326 Special Assistant to the General Counsel

DMGS00327 Director of Communications to the Chief of Staff

DMGS00329 Senior Policy Advisor to the Deputy Assistant Secretary for Information Analysis (Operations)

DMGS00330 Special Assistant to the Ombudsman

DMGS00331 Special Assistant to the Chief of Staff

DMGS00332 Press Assistant to the Director of Communications, Office of Domestic Preparedness

DMGS00333 Staff Assistant to the Director, National Capital Region Coordination

DMGS00334 Deputy Director of Communications to the Chief of Staff

DMGS00335 Director of Scheduling and Advance to the Chief of Staff

DMGS00337 Assistant Commissioner for Legislative Affairs to the Commissioner, Customs and Border Protection

DMGS00338 Confidential Assistant to the Under Secretary for Information Analysis and Infrastructure Protection

DMGS00339 Writer-Editor (Senior Speechwriter) to the Director of Speechwriting

DMGS00340 Press Assistant to the Assistant Secretary for Public Affairs

DMGS00342 White House Liaison to the Chief of Staff

DMGS00343 Special Assistant for Border and Transportation Security Policy to the Deputy Assistant Secretary for Border and Transportation Security Policy

DMGS00345 Staff Assistant to the White House Liaison

DMGS00347 Executive Assistant to the Chief of Staff

DMGS00349 Senior Advisor to the Deputy Assistant Secretary for Information Analysis (Operations)

DMGS00350 Deputy Press Secretary to the Assistant Secretary for Public Affairs

DMGS00351 Assistant Press Secretary to the Assistant Secretary for Public Affairs

DMGS00352 Special Assistant to the Deputy Assistant Secretary for Information Analysis (Operations)

DMGS00354 Special Assistant and Writer-Editor to the Executive Secretary

DMGS00355 Confidential Assistant to the Deputy Chief of Staff

DMGS00356 Special Assistant to the Chief of Staff

DMGS00357 Trip Coordinator to the Chief of Staff

DMGS00358 Assistant Press Secretary to the Assistant Secretary for Public Affairs

DMGS00367 Writer-Editor (Speechwriter) to the Assistant Secretary for Public Affairs

DMGS00368 Press Assistant to the Assistant Secretary for Public Affairs

DMGS00370 Senior Communications Advisor to the Assistant Secretary for Public Affairs

DMGS00373 Deputy White House Liaison to the White House Liaison

DMOT00190 Director, Stakeholder and Industry Affairs to the Administrator, United States Fire Administration

DMOT00224 Director of Legislative Affairs for Transportation Security Administration to the Administrator, Transportation Security Administration

Section 213.3312 Department of the Interior

DIGS00545 Special Assistant (Communications Program Manager) to the Director National Park Service

DIGS01001 Special Assistant for Scheduling and Advance to the Director of Scheduling and Advance

DIGS01017 Hispanic Media Outreach Coordinator to the Director, Office of Communications

DIGS01019 Confidential Assistant to the Senior Adviser to the Secretary for Alaskan Affairs

DIGS05001 Special Assistant to the Director Bureau of Land Management

DIGS60025 Special Assistant to the Secretary

DIGS60068 Associate Director—House to the Director, Congressional and Legislative Affairs

DIGS60133 Chief Office of Congressional and Legislative Affairs to the Director, External and Intergovernmental Affairs

DIGS60467 Special Assistant to the Director, External and Intergovernmental Affairs

DIGS60525 Special Assistant to the Assistant Secretary-Land and Minerals Management

DIGS60526 Special Assistant to the Chief of Staff

DIGS60561 Special Assistant to the Secretary for Alaska to the Chief of Staff

DIGS60567 White House Liaison to the Chief of Staff

DIGS61012 Special Assistant—Advance to the Director of Scheduling and Advance

DIGS61015 Special Assistant to the Secretary to the Chief of Staff

DIGS61018 Special Assistant to the White House Liaison

DIGS61020 Speechwriter to the Director, Office of Communications

DIGS61022 Deputy Press Secretary to the Director, Office of Communications

DIGS61024 Special Assistant to the Assistant Secretary for Fish and Wildlife and Parks

DIGS61025 Director—Scheduling and Advance to the Chief of Staff

DIGS61026 Deputy Director—External and Intergovernmental Affairs to the Director, External and Intergovernmental Affairs

DIGS61027 Special Assistant to the Associate Deputy Secretary

DIGS61028 Deputy Director, Take Pride In America to the Executive Director Take Pride In America

DIGS61029 Special Assistant to the Executive Director Take Pride In America

DIGS61030 Press Secretary to the Director, Office of Communications

DIGS61031 Special Assistant—Advance to the Director—Scheduling and Advance

DIGS61032 Special Assistant—External and Intergovernmental Affairs to the Director, External and Intergovernmental Affairs

DIGS61034 Special Assistant to the Chief of Staff

DIGS61035 Special Assistant to the Director, Office of Surface Mining Reclamation and Enforcement

DIGS61037 Special Assistant to the Assistant Secretary for Water and Science

DIGS61038 Special Assistant to the Director Minerals Management Service

DIGS70002 Special Assistant to the Director, National Park Service

DIGS70005 Assistant Director, Legislative and Congressional Affairs to the Director National Park Service

DIGS70006 Confidential Assistant to the Director National Park Service

DIGS70011 Special Assistant (Communications) to the Director, External and Intergovernmental Affairs

DIGS79001 Special Assistant to the Director, External and Intergovernmental Affairs

Section 213.3313 Department of Agriculture

DAGS00139 Director of External Affairs to the Administrator for Risk Management

DAGS00154 Special Assistant to the Chief of Staff

DAGS00158 Director of Constituent Affairs to the Deputy Chief of Staff

DAGS00161 Special Assistant to the Chief, Natural Research Conservation Service

DAGS00164 Director of Web Design to the Deputy Chief of Staff

DAGS00174 Confidential Assistant to the Deputy Assistant Secretary

DAGS00176 Confidential Assistant to the Deputy Assistant Secretary

DAGS00179 Special Assistant to the Administrator for Risk Management

DAGS00183 Director, Tobacco Programs to the Deputy Administrator

DAGS00190 Confidential Assistant to the Administrator, Farm Service Agency

DAGS00192 Special Assistant to the Chief Information Officer

DAGS00200 Special Assistant to the Secretary

DAGS00202 Special Assistant to the Under Secretary for Rural Development

DAGS00604 Confidential Assistant to the Director, Office of Business and Program Integration

DAGS00609 Special Assistant to the Associate Assistant Secretary for Civil Rights

DAGS00611 Director to the Administrator, Food and Nutrition Service

DAGS00701 Deputy Director, Office of Intergovernmental Affairs to the Director, Intergovernmental Affairs

DAGS00706 Confidential Assistant to the Deputy Assistant Secretary for Congressional Relations

DAGS00709 Special Assistant to the Under Secretary for Rural Development

DAGS00715 Confidential Assistant to the Secretary

DAGS00716 Special Assistant to the Administrator to the Administrator, Animal and Plant Health Inspection Service

DAGS00717 Special Assistant to the Administrator, Food and Nutrition Service

DAGS00718 Special Assistant to the Administrator, Farm Service Agency

DAGS00719 Special Assistant to the Deputy Under Secretary for Rural Economic Community Development

DAGS00721 Confidential Assistant to the Administrator for Risk Management

DAGS00723 Special Assistant to the Administrator, Farm Service Agency

DAGS00724 Confidential Assistant to the Under Secretary for Research, Education and Economics

DAGS00725 Special Assistant to the Administrator, Foreign Agricultural Service

DAGS00727 Special Assistant to the Under Secretary for Natural Resources and Environment

DAGS00728 Confidential Assistant to the Under Secretary for Rural Development

DAGS00729 Special Assistant to the Administrator, Rural Business Service

DAGS00730 Special Assistant to the Deputy Assistant Secretary for Administration

DAGS00731 Special Assistant to the Chief to the Chief, Natural Research Conservation Service

DAGS00733 Staff Assistant to the Executive Director for State Operations

DAGS00735 Staff Assistant to the Under Secretary for Marketing and Regulatory Programs

DAGS00736 Staff Assistant to the Under Secretary for Marketing and Regulatory Programs

DAGS00737 Staff Assistant to the Special Assistant, Office of the Secretary

DAGS00738 Staff Assistant to the Under Secretary for Food Safety

DAGS00739 Staff Assistant to the Administrator for Risk Management

DAGS00741 Special Assistant to the Administrator, Rural Utilities Service

DAGS00744 Confidential Assistant to the Deputy Under Secretary for Rural Development

DAGS00746 Confidential Assistant to the Deputy Under Secretary for Rural Development

DAGS00750 Confidential Assistant to the Deputy Under Secretary for Rural Development

DAGS00753 Special Assistant to the Deputy Under Secretary for Rural Development

DAGS00754 Staff Assistant to the Associate Administrator for Management

DAGS00756 Confidential Assistant to the Deputy Assistant Secretary for Congressional Relations

DAGS00757 Special Assistant to the Deputy Under Secretary, Research, Education and Economics

DAGS00758 Confidential Assistant to the Deputy Assistant Secretary for Congressional Relations

DAGS00760 Confidential Assistant to the Administrator, Foreign Agricultural Service

DAGS00761 Confidential Assistant to the Administrator, Food and Nutrition Service

DAGS00762 Confidential Assistant to the Administrator, Rural Housing Service

DAGS00763 Staff Assistant to the Under Secretary for Natural Resources and Environment

DAGS00765 Staff Assistant to the Under Secretary for Research, Education and Economics

DAGS00766 Confidential Assistant to the Administrator, Rural Housing Service

DAGS00768 Special Assistant to the Administrator, Rural Business Service

DAGS00769 Confidential Assistant to the Deputy Administrator-Program Operations

DAGS00770 Special Assistant to the Administrator, Rural Housing Service

DAGS00771 Staff Assistant to the Under Secretary for Marketing and Regulatory Programs

DAGS00773 Special Assistant to the Secretary

DAGS00774 Confidential Assistant to the Secretary

DAGS00775 Special Assistant to the Chief Information Officer

DAGS00776 Staff Assistant to the Secretary

DAGS00777 Special Assistant to the Chief to the Chief, Natural Research Conservation Service

DAGS00778 Director of Faith-Based and Community Initiatives to the Secretary

DAGS00779 Confidential Assistant to the Executive Director, Center for Nutrition Policy and Promotion

DAGS00780 Confidential Assistant to the Administrator, Foreign Agricultural Service

DAGS00781 Staff Assistant to the Administrator, Food Safety and Inspection Service

DAGS00782 Staff Assistant to the Associate Administrator for Management

DAGS00784 Special Assistant to the Assistant Secretary for Congressional Relations

DAGS00785 Special Assistant to the Administrator to the Under Secretary for Marketing and Regulatory Programs

DAGS00786 Special Assistant to the Assistant Secretary for Administration

DAGS00787 Director of Advance to the Director of Communications

DAGS00788 Press Secretary to the Director of Communications

DAGS00789 Staff Assistant to the Secretary

DAGS00790 Confidential Assistant to the Administrator for Risk Management

DAGS00795 Confidential Assistant to the Deputy Administrator-Program Operations

DAGS00796 Congressional Liaison to the Deputy Assistant Secretary

DAGS00798 Confidential Assistant to the Administrator, Rural Housing Service

DAGS00799 Speech Writer to the Director of Communications

DAGS00800 Confidential Assistant to the Administrator, Rural Housing Service

DAGS00801 Staff Assistant to the Secretary

DAGS00803 Director, Intergovernmental Affairs to the Deputy Assistant Secretary

DAGS00806 Deputy Director of Advance to the Director of Communications

DAGS60110 Special Assistant to the Secretary

DAGS60114 Confidential Assistant to the Deputy Secretary

DAGS60116 Confidential Assistant to the Under Secretary for Rural Development

DAGS60129 Special Assistant to the Administrator for Risk Management

DAGS60135 Confidential Assistant to the Administrator, Foreign Agricultural Service

DAGS60138 Special Assistant to the Administrator, Rural Utilities Service

DAGS60140 Confidential Assistant to the Director, Office of Small and Disadvantaged Business Utilization

DAGS60159 Special Assistant to the Administrator, Foreign Agricultural Service

DAGS60162 Assistant to the Deputy Administrator for Commodity Operations

DAGS60163 Director Native American Programs to the Assistant Secretary for Congressional Relations

DAGS60231 Director, Legislative and Public Affairs Staff to the Deputy Under Secretary for Rural Development

DAGS60263 Special Assistant to the Chief, Natural Research Conservation Service

DAGS60332 Confidential Assistant to the Administrator, Rural Business Service

DAGS60384 Confidential Assistant to the Secretary

DAGS60436 Confidential Assistant to the Administrator, Rural Business Service

DAGS60451 Special Assistant to the Administrator, Farm Service Agency

DAGS60534 Confidential Assistant to the Director of Communications

DAGS60592 Special Assistant to the Administrator, Farm Service Agency

Section 213.3314 Department of Commerce

DCGS00161 Confidential Assistant to the Under Secretary for International Trade

DCGS00181 Senior Advisor to the Assistant Secretary for Telecommunications and Information

DCGS00200 Special Assistant to the Deputy Assistant Secretary for Legislative and Intergovernmental Affairs

DCGS00202 Legislative Affairs Specialist to the Assistant Secretary for Congressional and Intergovernmental Affairs

DCGS00218 Senior Advisor to the Regional Administrator Northwest Region

DCGS00220 Confidential Assistant to the Chief of Staff

DCGS00227 Confidential Assistant to the National Director, Minority Business Development Agency

DCGS00237 Special Assistant to the Deputy Assistant Secretary for Industry Analysis

DCGS00252 Confidential Assistant to the Director, Office of Business Liaison

DCGS00257 Confidential Assistant to the Deputy Assistant Secretary for Europe

DCGS00267 Confidential Assistant to the Assistant Secretary for Congressional and Intergovernmental Affairs

DCGS00278 Special Assistant to the Assistant Secretary for Export Administration

DCGS00290 Special Assistant to the Director, Office of Business Liaison

DCGS00298 Special Assistant to the Deputy Assistant Secretary for Communications and Information

DCGS00306 Confidential Assistant to the Assistant Secretary for Congressional and Intergovernmental Affairs

DCGS00315 Director of Public Affairs to the Assistant Secretary for Economic Development

DCGS00321 Chief of Congressional Affairs to the Associate Director for Communications

DCGS00326 Confidential Assistant to the Assistant Secretary for Market Access and Compliance

DCGS00330 Special Assistant to the Director Advocacy Center

DCGS00344 Deputy Press Secretary to the Director of Public Affairs

DCGS00358 Special Assistant to the Assistant Secretary for Manufacturing and Services

DCGS00359 Confidential Assistant to the Assistant Secretary for Market Access and Compliance

DCGS00368 Congressional Affairs Specialist to the Director, Office of Legislative Affairs

DCGS00386 Confidential Assistant to the Director, Office of Legislative Affairs

DCGS00389 Senior Advisor to the Assistant Secretary for Import Administration

DCGS00395 Confidential Assistant to the Director of Global Trade Programs

DCGS00400 Deputy Press Secretary to the Director of Public Affairs

DCGS00419 Confidential Assistant to the Director of Global Trade Programs

DCGS00422 Confidential Assistant to the Executive Director for Trade Promotion and Outreach

DCGS00429 Confidential Assistant to the Director Advocacy Center

DCGS00433 Senior Policy Advisor to the Chief of Staff

DCGS00435 Confidential Assistant to the Deputy Secretary

DCGS00438 Director of Advisory Committees to the Assistant Secretary for Manufacturing and Services

DCGS00447 Confidential Assistant to the Director of Scheduling

DCGS00452 Confidential Assistant to the Deputy Assistant Secretary for Domestic Operations

DCGS00457 Confidential Assistant to the Director of Scheduling

DCGS00461 Confidential Assistant to the Chief Economist and Special Advisor to the Secretary

DCGS00465 Confidential Assistant to the Deputy Director

DCGS00468 Special Assistant to the Under Secretary for Export Administration

DCGS00486 Deputy Director of Speechwriting to the Director for Speechwriting

DCGS00488 Confidential Assistant to the Director, Executive Secretariat

DCGS00507 Confidential Assistant to the Associate Director for Communications

DCGS00529 Policy Advisor to the Under Secretary Oceans and Atmosphere (Administrator National Oceanic and Atmospheric Administration)

DCGS00531 Confidential Assistant to the Executive Director for Trade Promotion and Outreach

DCGS00534 Confidential Assistant to the Deputy Assistant Secretary for Transportation and Machinery

DCGS00536 Special Assistant to the Director, Office of White House Liaison

DCGS00539 Special Assistant to the Director, Executive Secretariat

DCGS00546 Special Assistant to the Deputy Assistant Secretary for Europe

DCGS00553 Confidential Assistant to the Assistant Secretary for Export Administration

DCGS00558 Confidential Assistant to the Director of Advance

DCGS00560 Senior Policy Advisor to the Assistant to the Secretary and Director, Office of Policy and Strategic Planning

DCGS00571 Senior Policy Advisor to the Deputy Assistant Secretary for Service Industries, Tourism and Finance

DCGS00573 Special Assistant to the Deputy Assistant Secretary for Export Promotion Services

DCGS00575 Confidential Assistant to the Executive Assistant

DCGS00576 Deputy Director, Office of Advance to the Director of Advance

DCGS00592 Legislative Affairs Specialist to the Under Secretary of Commerce for Intellectual Property and Director of the United States Patent and Trademark Office

DCGS00609 Confidential Assistant to the Chief of Staff

DCGS00610 Chief of Staff to the Under Secretary for International Trade

DCGS00611 Senior Advisor to the Under Secretary for International Trade

DCGS00620 Director, Office of Legislative Affairs to the Under Secretary for International Trade

DCGS00628 Confidential Assistant to the Director of Public Affairs

DCGS00629 Deputy Director of Public Affairs to the Director of Public Affairs

DCGS00631 Policy Advisor to the Under Secretary Oceans and Atmosphere (Administrator National Oceanic and Atmospheric Administration)

DCGS00639 Press Secretary to the Director of Public Affairs

DCGS00640 Speechwriter to the Director of Public Affairs

DCGS00641 Senior Policy Advisor to the Assistant to the Secretary and Director, Office of Policy and Strategic Planning

DCGS00643 Confidential Assistant to the Deputy Under Secretary and Deputy Director of the United States Patent and Trademark Office

DCGS00658 Confidential Assistant to the Under Secretary for International Trade

DCGS00660 Public Affairs Director to the Assistant Secretary for Manufacturing and Services

DCGS00663 Executive Director, White House Initiative on Asian Americans and Pacific Islanders to the National Director, Minority Business Development Agency

DCGS00675 Special Assistant to the Assistant Secretary for Market Access and Compliance

DCGS00680 Deputy Press Secretary to the Director of Public Affairs

DCGS00684 Director for Speechwriting to the Director of Public Affairs

DCGS00686 Director of Advance to the Chief of Staff

DCGS00689 Confidential Assistant to the Assistant Secretary for Market Access and Compliance

DCGS00692 Director of Congressional Affairs to the Deputy Assistant Secretary for External Affairs and Communication

DCGS17901 Public Affairs Specialist to the Director of Public Affairs

DCGS60004 Deputy Director to the Director, Executive Secretariat

DCGS60173 Senior Advisor to the Assistant Secretary for Economic Development

DCGS60193 Special Assistant to the Deputy Assistant Secretary for Transportation and Machinery

DCGS60225 Director, Congressional and Public Affairs to the Assistant Secretary for Export Administration

DCGS60266 Senior Advisor to the Assistant Secretary for Import Administration

DCGS60276 Executive Assistant to the Under Secretary for Economic Affairs

DCGS60287 Confidential Assistant to the Chief of Staff to the Deputy Secretary

DCGS60289 Intergovernmental Affairs Specialist to the Deputy Assistant Secretary for Intergovernmental Affairs

DCGS60299 Confidential Assistant to the Assistant Secretary for Economic Development

DCGS60302 Director of External Affairs to the Director, Office of Public and Constituent Affairs

DCGS60309 Senior Advisor to the National Director, Minority Business Development Agency

DCGS60317 Confidential Assistant to the Assistant to the Secretary and Director, Office of Policy and Strategic Planning

DCGS60343 Confidential Assistant to the Deputy Assistant Secretary for Export Promotion Services

DCGS60353 Confidential Assistant to the Executive Director for Trade Promotion and Outreach

DCGS60354 Public Affairs Specialist to the Assistant Secretary for Telecommunications and Information

DCGS60371 Policy Advisor to the Chief of Staff

DCGS60372 Senior Policy Advisor to the Under Secretary Oceans and Atmosphere (Administrator National Oceanic and Atmospheric Administration)

DCGS60385 Senior Analyst to the Director

DCGS60393 Legislative Affairs Specialist to the Deputy Assistant Secretary for Legislative and Intergovernmental Affairs

DCGS60394 Deputy Director, Office of Public Affairs to the Director of Public Affairs

DCGS60396 Legislative Affairs Specialist to the Director, Office of Legislative Affairs

DCGS60424 Legislative Affairs Specialist to the Director, Office of Legislative Affairs

DCGS60440 Special Assistant to the Director Office of White House Liaison

DCGS60448 Confidential Assistant to the Assistant Secretary for Market Access and Compliance

DCGS60458 Deputy Director of Marketing for Outreach to the Executive Director for Trade Promotion and Outreach

DCGS60463 Confidential Assistant to the Deputy Under Secretary and Deputy Director of the United States Patent and Trademark Office

DCGS60490 Director of Scheduling to the Chief of Staff

DCGS60527 Executive Assistant to the Secretary

DCGS60548 Confidential Assistant to the Chief of Staff

DCGS60574 Protocol Officer to the Director, Office of White House Liaison

DCGS60583 Special Assistant to the Assistant Secretary for Administrator and Chief Financial Officer

DCGS60604 Director, Office of Technology and E-Commerce to the Assistant Secretary for Manufacturing and Services

DCGS60618 Special Assistant to the Deputy Under Secretary and Deputy Director of the United States Patent and Trademark Office

DCGS60624 Senior Policy Advisor to the Assistant to the Secretary and Director, Office of Policy and Strategic Planning

DCGS60652 Confidential Assistant to the Executive Director for Trade Promotion and Outreach

DCGS60670 Director Office of Business Liaison to the Chief of Staff for National Oceanic and Atmospheric Administration

DCGS60676 Public Affairs Specialist to the Director of Public Affairs

DCGS60681 Speechwriter to the Under Secretary of Commerce for Intellectual Property and Director of the United States Patent and Trademark Office

DCGS60688 Confidential Assistant to the Director of Global Trade Programs

DCGS60694 Senior Advisor to the Director, Bureau of the Census to the Director

Section 213.3315 Department of Labor

DLGS60003 Special Assistant to the Chief of Staff

DLGS60007 Special Assistant to the Secretary of Labor

DLGS60008 Special Assistant to the Secretary of Labor

DLGS60009 Regional Representative to the Assistant Secretary for Congressional and Intergovernmental Affairs

DLGS60015 Legislative Officer to the Assistant Secretary for Congressional and Intergovernmental Affairs

DLGS60017 Senior Legislative Officer to the Assistant Secretary for Congressional and Intergovernmental Affairs

DLGS60025 Senior Legislative Officer to the Assistant Secretary for Congressional and Intergovernmental Affairs

DLGS60042 Special Assistant to the Assistant Secretary for Public Affairs

DLGS60043 Special Assistant to the Assistant Secretary for Occupational Safety and Health

DLGS60045 Staff Assistant to the Assistant Secretary for Public Affairs

DLGS60055 Special Assistant to the Assistant Secretary for Public Affairs

DLGS60074 Special Assistant to the Assistant Secretary for Public Affairs

DLGS60076 Special Assistant to the Assistant Secretary for Employment Standards

DLGS60078 Staff Assistant to the Assistant Secretary for Policy

DLGS60079 Special Assistant to the Assistant Secretary for Policy

DLGS60081 Intergovernmental Assistant to the Assistant Secretary for Congressional and Intergovernmental Affairs

DLGS60084 Special Assistant to the Director of Scheduling and Advance

DLGS60091 Special Assistant to the Assistant Secretary for Administration and Management

DLGS60092 Senior Advisor to the Deputy Solicitor (National Operations)

DLGS60093 Staff Assistant to the Secretary of Labor

DLGS60094 Special Assistant to the Assistant Secretary for Public Affairs

DLGS60099 Special Assistant to the Deputy Assistant Secretary for Employment and Training

DLGS60101 Chief of Staff to the Assistant Secretary for Employment Standards

DLGS60103 Regional Representative to the Assistant Secretary for Congressional and Intergovernmental Affairs

DLGS60104 Regional Representative to the Assistant Secretary for Congressional and Intergovernmental Affairs

DLGS60105 Regional Representative to the Assistant Secretary for Congressional and Intergovernmental Affairs

DLGS60107 Regional Representative to the Assistant Secretary for Congressional and Intergovernmental Affairs

DLGS60109 Regional Representative to the Assistant Secretary for Congressional and Intergovernmental Affairs

DLGS60110 Regional Representative to the Assistant Secretary for Congressional and Intergovernmental Affairs

DLGS60111 Regional Representative to the Assistant Secretary for Congressional and Intergovernmental Affairs

DLGS60112 Regional Representative to the Assistant Secretary for Congressional and Intergovernmental Affairs

DLGS60118 Staff Assistant to the Secretary of Labor

DLGS60121 Special Assistant to the Secretary of Labor

DLGS60122 Senior Intergovernmental Officer to the Assistant Secretary for Congressional and Intergovernmental Affairs

DLGS60123 Special Assistant to the Deputy Assistant Secretary

DLGS60126 Special Assistant to the Deputy Assistant Secretary for Labor-Management Programs

DLGS60127 Special Assistant to the Deputy Assistant Secretary for Labor-Management Programs

DLGS60130 Research Assistant to the Assistant Secretary for Congressional and Intergovernmental Affairs

DLGS60131 Special Assistant to the Assistant Secretary for Employment and Training

DLGS60133 Chief of Staff to the Director of the Women's Bureau

DLGS60135 Special Assistant to the Secretary of Labor

DLGS60137 Staff Assistant to the Executive Secretary

DLGS60138 Chief of Staff to the Assistant Secretary for Mine Safety and Health

DLGS60144 Staff Assistant to the Director, 21st Century Office and Deputy Assistant Secretary for Intergovernmental Affairs

DLGS60145 Intergovernmental Officer to the Assistant Secretary for Congressional and Intergovernmental Affairs

DLGS60146 Attorney Advisor to the Solicitor of Labor

DLGS60147 Attorney Advisor to the Solicitor of Labor

DLGS60149 Special Assistant to the Director of the Women's Bureau

DLGS60159 Special Assistant to the Deputy Under Secretary for International Affairs

DLGS60161 Staff Assistant to the Assistant Secretary for Public Affairs

DLGS60163 Chief of Staff to the Assistant Secretary for Occupational Safety and Health

DLGS60168 Intergovernmental Officer to the Assistant Secretary for Congressional and Intergovernmental Affairs

DLGS60169 Deputy Director, Executive Secretariat to the Executive Secretary

DLGS60170 Special Assistant to the Secretary of Labor

DLGS60171 Deputy Director, Scheduling and Advance to the Secretary of Labor

DLGS60172 Special Assistant to the Director, Office of Faith Based and Community Initiatives

DLGS60173 Chief of Staff to the Assistant Secretary for Disability Employment Policy

DLGS60174 Special Assistant to the Secretary of Labor

DLGS60177 Special Assistant to the Assistant Secretary for Public Affairs

DLGS60181 Special Assistant to the Assistant Secretary for Public Affairs

DLGS60182 Staff Assistant to the Senior Advisor to the Secretary

DLGS60183 Special Assistant to the Assistant Secretary for Occupational Safety and Health

DLGS60185 Deputy Director to the Director, Office of Faith Based and Community Initiatives

DLGS60187 Special Assistant to the Assistant Secretary for Employment and Training

DLGS60189 Special Assistant to the Chief Financial Officer

DLGS60190 Senior Legislative Officer to the Assistant Secretary for Congressional and Intergovernmental Affairs

DLGS60192 Chief of Staff to the Assistant Secretary for Employee Benefits Security

DLGS60195 Special Assistant to the Assistant Secretary for Employment Standards

DLGS60196 Special Assistant to the Assistant Secretary for Veterans Employment and Training

DLGS60203 Special Assistant to the Assistant Secretary for Veterans Employment and Training

DLGS60204 Special Assistant to the Assistant Secretary for Veterans Employment and Training

DLGS60205 Deputy Director, 21st Century Workforce to the Director, 21st Century Workforce

DLGS60208 Senior Legislative Officer to the Assistant Secretary for Congressional and Intergovernmental Affairs

DLGS60209 Special Assistant to the Assistant Secretary for Veterans Employment and Training

DLGS60210 Special Assistant to the Director, Office of Faith Based and Community Initiatives

DLGS60212 Special Assistant to the Director of Operations

DLGS60214 Staff Assistant to the Secretary of Labor

DLGS60219 Staff Assistant to the Director of Operations

DLGS60220 Special Assistant to the Assistant Secretary for Public Affairs

DLGS60221 Special Assistant to the Assistant Secretary for Public Affairs

DLGS60229 Special Assistant to the Assistant Secretary for Disability Employment Policy

DLGS60230 Staff Assistant to the Director, 21st Century Office and Deputy Assistant Secretary for Intergovernmental Affairs

DLGS60231 Staff Assistant to the Counselor, Office of the Secretary

DLGS60232 Special Assistant to the Assistant Secretary for Administration and Management

DLGS60233 Special Assistant to the Assistant Secretary for Employment Standards

DLGS60234 Chief of Staff to the Assistant Secretary for Policy

DLGS60236 Legislative Officer to the Assistant Secretary for Congressional and Intergovernmental Affairs

DLGS60237 Special Assistant to the Secretary of Labor

DLGS60238 Legislative Assistant to the Assistant Secretary for Congressional and Intergovernmental Affairs

DLGS60239 Staff Assistant to the Executive Assistant to the Secretary

DLGS60240 Legislative Assistant to the Assistant Secretary for Congressional and Intergovernmental Affairs

DLGS60244 Special Assistant to the Director, Office of Faith Based and Community Initiatives

DLGS60245 Special Assistant to the Secretary of Labor

DLGS60246 Staff Assistant to the Director, 21st Century Workforce

DLGS60248 Special Assistant to the Director of Public Liaison

DLGS60252 Special Assistant to the Director, 21st Century Workforce

DLGS60253 Special Assistant to the Deputy Secretary of Labor

DLGS60254 Senior Intergovernmental Officer to the Assistant Secretary for Congressional and Intergovernmental Affairs

DLGS60255 Special Assistant to the Executive Assistant to the Secretary

DLGS60256 Special Assistant to the Deputy Assistant Secretary for Labor-Management Programs

DLGS60257 Intergovernmental Assistant to the Assistant Secretary for Congressional and Intergovernmental Affairs

DLGS60260 Special Assistant to the Director of Public Liaison

DLGS60264 Chief of Staff to the Wage and Hour Administrator

DLGS60266 Chief of Staff to the Deputy Under Secretary for International Affairs

DLGS60267 Speechwriter to the Assistant Secretary for Public Affairs

DLGS60269 Special Assistant to the Secretary of Labor

DLGS60270 Special Assistant to the Assistant Secretary for Employment and Training

DLGS60272 Special Assistant to the Director of Public Liaison

DLGS60273 Special Assistant to the Assistant Secretary for Administration and Management

DLGS60277 Special Assistant to the Assistant Secretary for Administration and Management

DLGS60278 Staff Assistant to the Chief Financial Officer

Section 213.3316 Department of Health and Human Services

DHGS00268 Special Assistant to the Executive Secretary

DHGS00378 Special Assistant to the Assistant Secretary for Public Affairs

DHGS00492 Deputy White House Liaison for Boards and Committees to the Chief of Staff

DHGS60001 Special Assistant for Special Projects to the Secretary, Health and Human Services

DHGS60002 Special Assistant to the Chief of Staff

DHGS60003 Special Assistant to the Deputy Commissioner for Policy

DHGS60004 Director, Secretary's Prevention Initiatives to the Assistant Secretary, Health

DHGS60005 Confidential Assistant to the Assistant Secretary for Aging (Commissioner for Aging)

DHGS60006 Confidential Assistant to the Director of Communications

DHGS60007 Special Assistant to the Associate Commissioner for External Relations

DHGS60008 Senior Advisor to the Assistant Secretary for Children and Families

DHGS60009 Special Assistant to the Assistant Secretary for Public Health Emergency Preparedness

DHGS60013 Confidential Assistant (Scheduling) to the Director of Scheduling

DHGS60014 Director, Correspondence Control Center to the Executive Secretary to the Department

DHGS60015 Deputy Director, Center for Faith Based and Community Initiatives to the Director, Center for Faith Based and Community Initiatives

DHGS60016 Confidential Assistant to the Director, Center for Faith Based and Community Initiatives

DHGS60017 Director of Scheduling to the Chief of Staff

DHGS60018 Deputy Director, Scheduling and Advance to the Director of Scheduling

DHGS60020 Senior Advisor to the Assistant Secretary for Health

DHGS60021 Special Assistant to the Director, Office of Community Services

DHGS60026 Special Assistant to the Director, Office of External Affairs

DHGS60052 Chief Acquisitions Officer to the Chief of Staff

DHGS60167 Confidential Assistant to the Deputy Assistant Secretary for Public Affairs (Policy and Strategy)

DHGS60187 Special Assistant to the Assistant Secretary for Public Affairs

DHGS60236 Secretary's Regional Representative for Intergovernmental Affairs to the Director of Intergovernmental Affairs

DHGS60237 Regional Director, New York, New York, Region II to the Director of Intergovernmental Affairs

DHGS60240 Regional Director, Dallas, Texas, Region VI to the Director of Intergovernmental Affairs

DHGS60252 Regional Director, Denver, Colorado, Region VIII to the Director of Intergovernmental Affairs

DHGS60255 Regional Director, Chicago, Illinois-Region V to the Director of Intergovernmental Affairs

DHGS60293 Special Assistant to the Commissioner Administration for Children Youth and Families

DHGS60336 Special Assistant to the Deputy Assistant Secretary for Legislation (Human Services)

DHGS60345 Director of Public Affairs to the Assistant Secretary for Children and Families

DHGS60347 Congressional Liaison Specialist to the Deputy Assistant Secretary for Legislative (Congressional Liaison)

DHGS60363 Director, Congressional Liaison Office to the Assistant Secretary for Legislation

DHGS60374 Confidential Assistant to the Executive Secretary to the Department

DHGS60383 Special Assistant to the Assistant Secretary for Public Affairs

DHGS60399 Special Assistant to the Commissioner Administration for Children Youth and Families

DHGS60412 Regional Director, San Francisco, California, Region IX to the Director of Intergovernmental Affairs

DHGS60417 Regional Director, Kansas City, Missouri, Region VII to the Director of Intergovernmental Affairs

DHGS60427 Executive Director, President's Committee for People with Intellectual Disabilities to the Assistant Secretary for Children and Families

DHGS60436 Associate Commissioner to the Assistant Secretary for Children and Families

DHGS60497 Special Assistant for International and Immigration Issues to the Assistant Secretary for Children and Families

DHGS60512 Special Assistant to the Assistant Secretary for Children and Families to the Assistant Secretary for Children and Families

DHGS60513 Special Assistant to the Commissioner for Child Support Enforcement to the Director of Public Affairs

DHGS60519 Speechwriter to the Deputy Assistant Secretary for Public Affairs (Policy and Communications)

DHGS60523 Executive Director, President's Council on Physical Fitness and Sports to the Assistant Secretary, Health

DHGS60526 Confidential Assistant to the Deputy Secretary, Health and Human Services

DHGS60527 Confidential Assistant (Scheduling) to the Director of Scheduling

DHGS60539 Special Assistant to the General Counsel

DHGS60541 Special Assistant to the Deputy Director Office of Child Support Enforcement

DHGS60542 Special Assistant to the Administrator Centers for Medicare and Medicaid Services

DHGS60553 Director of Communications to the Deputy Assistant Secretary for Public Affairs (Policy and Communications)

DHGS60556 Director of Speechwriting to the Deputy Assistant Secretary for Public Affairs (Media)

DHGS60627 Confidential Assistant to the Administrator, Substance Abuse and Mental Health Service

DHGS60629 Executive Director, President's Commission of HIV/AIDS to the Assistant Secretary, Health

DHGS60661 Special Assistant to the Deputy Secretary, Health and Human Services

DHGS60665 Deputy Director for Policy, Intergovernmental Affairs to the Director of Intergovernmental Affairs

DHGS60686 Special Assistant to the Director of Medicare Outreach and Special Advisor to the Secretary

DHGS60689 Director of Media Affairs to the Director, Office of External Affairs

DHGS60692 Congressional Liaison Specialist to the Deputy Assistant Secretary for Legislative Affairs (Congressional Liaison)

DHGS60694 Confidential Assistant to the Director of Medicare Outreach and Special Advisor to the Secretary

DHGS60695 Confidential Assistant (Briefing Book and Advance) to the Director of Scheduling

DHGS60696 Confidential Assistant (Scheduling) to the Director of Scheduling

Section 213.3317 Department of Education

DBGS00081 Special Assistant to the Director, Faith-Based and Community Initiatives Center

DBGS00094 Special Assistant to the Deputy Assistant Secretary for Regional Services

DBGS00198 Special Assistant to the Assistant Secretary for Special Education and Rehabilitative Services

DBGS00202 Deputy Assistant Secretary for Policy to the Assistant Secretary for Elementary and Secondary Education

DBGS00204 Special Assistant to the Chief Financial Officer

DBGS00211 Special Assistant to the Deputy Under Secretary for Safe and Drug-Free Schools

DBGS00216 Deputy Secretary's Regional Representative, Region X to the Assistant Secretary for Intergovernmental and Interagency Affairs

DBGS00218 Director, White House Initiative on Tribal Colleges and Universities to the Chief of Staff

DBGS00222 Confidential Assistant to the Senior Advisor to the Secretary

DBGS00231 Confidential Assistant to the Assistant Secretary for Vocational and Adult Education

DBGS00236 Secretary's Regional Representative to the Assistant Secretary for Intergovernmental and Interagency Affairs

DBGS00237 Executive Assistant to the General Counsel

DBGS00246 Confidential Assistant to the Deputy Assistant Secretary

DBGS00249 Special Assistant to the Assistant Secretary for Postsecondary Education

DBGS00260 Deputy Secretary's Regional Representative Region VIII to the Deputy Assistant Secretary for Regional Services

DBGS00262 Confidential Assistant to the Senior Advisor to the Secretary

DBGS00265 Special Assistant to the Assistant Secretary for Management/Chief Information Officer

DBGS00271 Special Assistant to the Chief of Staff

DBGS00276 Confidential Assistant to the Chief of Staff

DBGS00280 Confidential Assistant to the Chief of Staff

DBGS00284 Confidential Assistant (Protocol) to the Deputy Chief of Staff for Operations

DBGS00285 Special Assistant (Education Attache to the United States Mission to the United Nations Educational, Scientific and Cultural Organization) to the Secretary

DBGS00287 Confidential Assistant to the Deputy Assistant Secretary

DBGS00290 Special Assistant to the Assistant Secretary for Vocational and Adult Education

DBGS00294 Special Assistant (Deputy Director, White House Liaison) to the Special Assistant (White House Liaison)

DBGS00296 Special Assistant to the Director, Faith-Based and Community Initiatives Center

DBGS00299 Special Assistant to the Assistant Secretary for Elementary and Secondary Education

DBGS00301 Deputy Assistant Secretary for Regional Services to the Assistant Secretary for Intergovernmental and Interagency Affairs

DBGS00303 Director, White House Initiative on Hispanic Education to the Chief of Staff

DBGS00305 Special Assistant to the Director Office of Public Affairs (Communications Director)

DBGS00306 Deputy Assistant Secretary to the Assistant Secretary for Legislation and Congressional Affairs

DBGS00307 Special Assistant to the Director, Faith-Based and Community Initiatives Center

DBGS00308 Special Assistant to the Deputy Assistant Secretary for Intergovernmental, Constituent Relations and Corporate Liaison

DBGS00312 Confidential Assistant to the Assistant Secretary for Postsecondary Education

DBGS00313 Deputy Secretary's Regional Representative to the Assistant Secretary for Intergovernmental and Interagency Affairs

DBGS00316 Special Assistant to the Assistant Secretary for Legislation and Congressional Affairs

DBGS00317 Confidential Assistant to the Deputy Assistant Secretary for Regional Services

DBGS00318 Special Assistant to the Deputy Assistant Secretary for Intergovernmental, Constituent Relations and Corporate Liaison

DBGS00323 Confidential Assistant to the Deputy Under Secretary for Innovation and Improvement

DBGS00324 Special Assistant to the Senior Advisor to the Secretary

DBGS00325 Press Secretary to the Director, Office of Public Affairs (Communications Director)

DBGS00326 Special Assistant to the Senior Advisor to the Secretary

DBGS00327 Special Assistant to the Deputy Director of Communications, Office of Public Affairs

DBGS00329 Special Assistant to the Chief of Staff

DBGS00331 Special Assistant to the Deputy Under Secretary for Safe and Drug-Free Schools

DBGS00332 Special Assistant to the Assistant Secretary for Elementary and Secondary Education

DBGS00335 Confidential Assistant to the Deputy Secretary of Education

DBGS00336 Special Assistant to the Senior Advisor to the Secretary

DBGS00337 Confidential Assistant to the Senior Advisor to the Secretary

DBGS00338 Confidential Assistant to the Deputy Secretary of Education

DBGS00339 Confidential Assistant to the Deputy Secretary of Education

DBGS00340 Confidential Assistant to the Deputy Assistant Secretary

DBGS00343 Confidential Assistant to the Assistant Secretary for Legislation and Congressional Affairs

DBGS00344 Special Assistant to the Deputy Assistant Secretary

DBGS00345 Confidential Assistant to the Assistant Secretary for Elementary and Secondary Education

DBGS00347 Confidential Assistant to the Deputy Secretary of Education

DBGS00348 Confidential Assistant to the Deputy Chief of Staff for Operations

DBGS00352 Confidential Assistant to the Deputy Director, Office of Public Affairs

DBGS00353 Special Assistant to the Director, Office of Scheduling and Briefing

DBGS00355 Confidential Assistant to the Deputy Secretary of Education

DBGS00357 Confidential Assistant to the Deputy Assistant Secretary for Regional Services

DBGS00359 Confidential Assistant to the Deputy Assistant Secretary for Enforcement

DBGS00360 Deputy Secretary's Regional Representative to the Deputy Assistant Secretary for Regional Services

DBGS00362 Deputy Secretary's Regional Representative—Region II to the Deputy Assistant Secretary for Regional Services

DBGS00367 Special Assistant to the Secretary

DBGS00368 Confidential Assistant to the Assistant Secretary for Elementary and Secondary Education

DBGS00369 Confidential Assistant to the Assistant Deputy Secretary for Innovation and Improvement

DBGS00370 Confidential Assistant to the Director, Office of Educational Technology

DBGS00371 Confidential Assistant to the Chief of Staff

DBGS00372 Confidential Assistant to the Assistant Secretary for Civil Rights

DBGS00373 Confidential Assistant to the Assistant Secretary for Vocational and Adult Education

DBGS00374 Special Assistant to the Chief of Staff

DBGS00375 Confidential Assistant to the Assistant Secretary for Special Education and Rehabilitative Services

DBGS00376 Director, Scheduling and Advance Staff to the Chief of Staff

DBGS00377 Confidential Assistant to the Deputy Assistant Secretary

DBGS00378 Confidential Assistant to the Deputy Assistant Secretary

DBGS00379 Confidential Assistant to the Assistant Secretary for Postsecondary Education

DBGS00380 Special Assistant to the Assistant Secretary for Management/Chief Information Officer

DBGS00381 Confidential Assistant to the Deputy General Counsel for Departmental and Legislative Service

DBGS00386 Special Assistant to the Chief of Staff

DBGS00387 Confidential Assistant to the Assistant Deputy Secretary for Safe and Drug-Free Schools

DBGS00388 Special Assistant to the Chief of Staff

DBGS00389 Special Assistant to the Chief of Staff

DBGS00390 Confidential Assistant to the Director, Scheduling and Advance Staff

DBGS00391 Confidential Assistant to the Secretary

DBGS00392 Special Assistant to the Secretary

DBGS00394 Confidential Assistant to the Assistant Secretary for Elementary and Secondary Education

DBGS00396 Special Assistant to the Director, Faith-Based and Community Initiatives Center

DBGS00397 Special Assistant to the Chief of Staff

DBGS00398 Confidential Assistant to the Chief of Staff

DBGS00400 Deputy Assistant Secretary for Planning to the Chief of Staff

DBGS00403 Confidential Assistant to the Chief of Staff

DBGS00405 Special Assistant to the Assistant Secretary for Special Education and Rehabilitative Services

DBGS60015 Special Assistant to the Deputy Assistant Secretary for Regional Services

DBGS60037 Deputy Assistant Secretary for Intergovernmental, Constituent Relations and Corporate Liaison to the Assistant Secretary for Intergovernmental and Interagency Affairs

DBGS60038 Secretary's Regional Representative, Region I, Boston, MA, to the Deputy Assistant Secretary for Regional Services

DBGS60052 Deputy Director to the Director, Office of English Language Acquisition, Language Enhancement, and Academic Achievement for Limited English Proficient Students

DBGS60055 Secretary's Regional Representative, Region VIII to the Deputy Assistant Secretary for Regional Services

DBGS60064 Secretary's Regional Representative, Region II to the Deputy Assistant Secretary for Regional Services

DBGS60075 Special Assistant to the Assistant Secretary for Elementary and Secondary Education

DBGS60077 Special Assistant to the Director, Office of Scheduling and Briefing

DBGS60085 Secretary's Regional Representative, Region IX to the Deputy Assistant Secretary for Regional Services

DBGS60092 Secretary's Regional Representative, Region V to the Deputy Assistant Secretary for Regional Services

DBGS60093 Special Assistant to the Assistant Secretary for Elementary and Secondary Education

DBGS60096 Special Assistant to the Deputy Assistant Secretary for Regional Services

DBGS60113 Special Assistant to the Director, Office of Public Affairs (Communications Director)

DBGS60115 Secretary's Regional Representative, Region X to the Deputy Assistant Secretary for Regional Services

DBGS60122 Secretary's Regional Representative, Region VII to the Deputy Assistant Secretary for Regional Services

DBGS60126 Deputy Secretary's Regional Representative, Region I to the Secretary's Regional Representative, Region I, Boston, MA

DBGS60127 Special Assistant to the Assistant Secretary for Vocational and Adult Education

DBGS60129 Special Assistant to the Assistant Secretary for Special Education and Rehabilitative Services

DBGS60130 Special Assistant to the Director, Office of English Language Enhancement, and Academic Achievement for Limited English Proficient Students

DBGS60142 Secretary's Regional Representative, Region IV to the Deputy Assistant Secretary for Regional Services

DBGS60143 Confidential Assistant to the Director, Faith-Based and Community Initiatives Center

DBGS60145 Confidential Assistant to the Deputy Director

DBGS60150 Special Assistant to the Chief of Staff

DBGS60151 Special Assistant to the Chief of Staff

DBGS60174 Special Assistant to the Chief Financial Officer

DBGS60176 Confidential Assistant to the Deputy Assistant Secretary

DBGS60194 Special Assistant to the Director, White House Initiative on Hispanic Education

DBGS60197 Confidential Assistant to the Special Assistant, Office of the Secretary

Section 213.3318 Environmental Protection Agency

EPGS00922 Associate Assistant Administrator to the Assistant Administrator for Research and Development

EPGS03300 Public Affairs Specialist to the Associate Administrator for Public Affairs

EPGS03500 Senior Policy Advisor to the Deputy Assistant Administrator for Water

EPGS03606 Press Secretary to the Associate Assistant Administrator for Public Affairs

EPGS04008 Chief of Staff, Office of the Assistant Administrator for Air and Radiation

EPGS04014 Public Liaison Specialist to the Assistant Administrator for Enforcement and Compliance Assurance

EPGS04022 Senior Advisor to the Deputy Assistant Administrator for Water

EPGS04023 Special Assistant to the Associate Administrator for Congressional and Intergovernmental Relations

EPGS04024 Special Assistant to the Administrator (Advance Person) to the Associate Administrator for Public Affairs

EPGS04025 Counselor to the Administrator for Agricultural Policy

EPGS04026 Lead Program Analyst to the Administrator

EPGS04029 Special Assistant to the Deputy Chief of Staff to the Administrator (Operations)

EPGS05017 Senior Advisor to the Administrator

EPGS05018 Deputy Associate Administrator for Congressional Affairs to the Associate Administrator for Congressional and Intergovernmental Relations

EPGS05019 Program Advisor (Media Relations) to the Associate Administrator for Public Affairs

EPGS05020 Director, Office of Long-Range Communications to the Associate Administrator for Public Affairs

EPGS05021 Program Advisor to the Associate Administrator for Public Affairs

EPGS05022 Program Advisor (Operations) to the Deputy Chief of Staff (Operations)

EPGS05023 Audio Visual Producer to the Deputy Chief of Staff (Operations)

EPGS05024 Deputy Associate Administrator to the Deputy Chief of Staff (Operations)

EPGS05025 Program Assistant to the Assistant Administrator for Environmental Information

EPGS05026 Policy Writer to the Deputy Chief of Staff (Operations)

EPGS05027 Deputy Associate Administrator for Policy, Economics and Innovation to the Associate Administrator for Policy, Economics and Innovation

EPGS05028 Public Liaison Officer to the Deputy Chief of Staff (Operations)

EPGS05029 Special Assistant to the Assistant Administrator for Enforcement and Compliance Assurance

EPGS05031 Program Specialist to the Assistant Administrator for Administration and Resources Management

EPGS05032 Special Assistant (Advance Person) to the Associate Administrator for Public Affairs

EPGS05033 Policy Advisor to the Administrator

EPGS05034 Program Advisor to the Chief Financial Officer

EPGS05036 Program Advisor, Office of Public Affairs, to the Deputy Chief of Staff (Operations)

EPGS60065 Recycling Communications Advisor to the Deputy Director, Office of Solid Waste

EPGS60069 Special Assistant for Communications to the Assistant Administrator for Water

EPGS60071 Senior Advisor to the Assistant Administrator for International Activities

EPGS60074 Policy Analyst to the Assistant Administrator for Air and Radiation

EPGS60076 Senior Counsel to the Associate Administrator for Congressional and Intergovernmental Relations

EPGS60082 Special Assistant to the Associate Administrator

EPGS60089 Senior Advisor to the Chief Financial Officer

EPGS60090 Program Advisor (Advance Person) to the Deputy Associate Administrator for the Office of Public Affairs

Section 213.3323 Overseas Private Investment Corporation

PQGS03088 Confidential Assistant to the Confidential Assistant

PQGS05007 Special Assistant to Vice President Investment Funds

PQGS05008 Confidential Assistant to the Chief of Staff

PQGS05017 Confidential Assistant to the Chief of Staff

PQGS60018 Executive Assistant to the President

PQGS60020 Executive Assistant to the Executive Vice President

PQGS60021 Confidential Assistant to the President

Section 213.3325 United States Tax Court

JCGS60040 Secretary Confidential Assistant to the Chief Judge

JCGS60041 Secretary (Confidential Assistant) to the Chief Judge

JCGS60042 Secretary (Confidential Assistant) to the Chief Judge

JCGS60043 Secretary (Confidential Assistant) to the Chief Judge

JCGS60044 Secretary (Confidential Assistant) to a Chief Judge

JCGS60045 Secretary (Confidential Assistant) to a Chief Judge

JCGS60046 Secretary (Confidential Assistant) to a Chief Judge

JCGS60047 Secretary (Confidential Assistant) to a Chief Judge

JCGS60048 Secretary (Confidential Assistant) to a Chief Judge

JCGS60049 Secretary (Confidential Assistant) to a Chief Judge

JCGS60050 Secretary (Confidential Assistant) to a Chief Judge

JCGS60051 Secretary (Confidential Assistant) to a Chief Judge

JCGS60052 Secretary (Confidential Assistant) to a Chief Judge

JCGS60053 Secretary (Confidential Assistant) to a Chief Judge

JCGS60054 Secretary (Confidential Assistant) to a Chief Judge

JCGS60055 Secretary (Confidential Assistant) to a Chief Judge

JCGS60056 Secretary (Confidential Assistant) to a Chief Judge

JCGS60057 Secretary (Confidential Assistant) to a Chief Judge

JCGS60058 Secretary (Confidential Assistant) to a Chief Judge

JCGS60059 Secretary (Confidential Assistant) to a Chief Judge

JCGS60060 Secretary (Confidential Assistant) to a Chief Judge

JCGS60062 Secretary (Confidential Assistant) to a Chief Judge

JCGS60064 Secretary (Confidential Assistant) to a Chief Judge

JCGS60065 Secretary (Confidential Assistant) to a Chief Judge

JCGS60069 Trial Clerk to a Chief Judge

JCGS60071 Trial Clerk to a Chief Judge

JCGS60072 Trial Clerk to a Chief Judge

JCGS60073 Trial Clerk to a Chief Judge

JCGS60074 Trial Clerk to a Chief Judge

JCGS60075 Trial Clerk to a Chief Judge

JCGS60077 Trial Clerk to a Chief Judge

JCGS60078 Trial Clerk to a Chief Judge

JCGS60079 Trial Clerk to a Chief Judge

JCGS60080 Secretary (Confidential Assistant) to a Chief Judge

Section 213.3327 Department of Veterans Affairs

DVGS60011 Special Assistant to the Assistant Secretary for Public and Intergovernmental Affairs

DVGS60015 Special Assistant to the Special Assistant (Supervisory Regional Veterans Service Liaison Officer)

DVGS60031 Senior Advisor to the Deputy Secretary of Veterans Affairs

DVGS60032 Director, Center for Faith Based Community Initiatives to the Assistant Secretary for Public and Intergovernmental Affairs

DVGS60033 Special Assistant to the Deputy Assistant Secretary for Congressional and Legislative Affairs

DVGS60095 Special Assistant to the Assistant Secretary for Human Resources and Administration

DVGS60099 Special Assistant to the Assistant Secretary for Public and Intergovernmental Affairs

DVGS60106 Special Assistant to the Assistant Secretary for Congressional and Legislative Affairs

Section 213.3328 Broadcasting Board of Governors

IBGS00013 Chief of Staff to the Director, Office of Cuba Broadcasting

IBGS00015 Senior Advisor to the Director

IBGS00018 Senior Projects Officer to the Director

IBGS00019 Special Assistant to the Director

IBGS00020 Special Assistant to the Chairman, Broadcasting Board of Governors

Section 213.3330 Securities and Exchange Commission

SEOT60002 Confidential Assistant to a Commissioner

SEOT60003 Confidential Assistant to a Commissioner

SEOT60004 Director of Legislative Affairs to the Director of Communications

SEOT60005 Confidential Assistant to a Commissioner

SEOT60008 Secretary (Office Automation) to the Chief Accountant

SEOT60009 Secretary to the General Counsel of the Commission

SEOT60011 Speech Writer to the Managing Executive for External Affairs

SEOT60014 Secretary to the Director, Division of Market Regulation

SEOT60016 Secretary to the Director, Division of Enforcement

SEOT60018 Secretary to the Director, Division of Investment Managment

SEOT60019 Secretary to the Director

SEOT60029 Secretary to the Director, Division of Market Regulation

SEOT60032 Director of Public Affairs to the Chairman

SEOT60056 Legislative Affairs Specialist to the Director of Communications

SEOT60057 Legislative Affairs Specialist to the Director of Legislative Affairs

Section 213.3331 Department of Energy

DEGS00305 Senior Policy Advisor to the Director, Office of Civilian Radioactive Waste Management

DEGS00318 Advisor, Legislative Affairs to the Assistant Secretary (Conservation and Renewable Energy)

DEGS00321 Director, Office of Climate Change Programs to the Deputy Assistant Secretary for National Energy Policy

DEGS00329 Congressional Relations Specialist to the Deputy Administrator for Defense Programs, National Nuclear Security Administration

DEGS00341 Confidential Assistant to the Deputy Administrator for Defense Programs, National Nuclear Security Administration

DEGS00342 Trip Coordinator to the Director, Office of Scheduling and Advance

DEGS00346 Communications Assistant to the Chief of Staff

DEGS00348 Policy Advisor to the Director, Office of Science

DEGS00381 Public Affairs Specialist to the Deputy Administrator for Defense Programs, National Nuclear Security Administration

DEGS00385 Senior Policy Advisor to the Director, Public Affairs

DEGS00392 Chief of Staff to the Principal Deputy Assistant Secretary

DEGS00393 Policy Advisor to the Director, Office of Worker and Community Transition

DEGS00394 Deputy Assistant Secretary for Energy Policy to the Assistant Secretary for Congressional and Intergovernmental Affairs

DEGS00395 Special Assistant to the Secretary, Department of Energy

DEGS00397 Deputy Director of Scheduling and Advance to the Director, Office of Scheduling and Advance

DEGS00399 Special Assistant to the Director, Office of Economic Impact and Diversity

DEGS00402 Advance Representative to the Director, Office of Scheduling and Advance

DEGS00403 Special Assistant to the Chief of Staff

DEGS00404 Senior Policy Advisor to the Associate Deputy Secretary of Energy

DEGS00407 Daily Scheduler to the Director, Office of Scheduling and Advance

DEGS00408 Director, Office of Communications and Outreach to the Principal Deputy Assistant Secretary

DEGS00409 Special Assistant to the Director, Public Affairs

DEGS00414 Deputy Director for Public Affairs to the Director, Public Affairs

DEGS00416 Deputy Assistant Secretary for Environment and Science to the Assistant Secretary for Congressional and Intergovernmental Affairs

DEGS00421 Deputy Assistant Secretary for Budget and Appropriations to the Assistant Secretary for Congressional and Intergovernmental Affairs

Section 213.3331 Department of Energy Intergovernmental Affairs

DEGS00423 Legislative Specialist to the Deputy Assistant Secretary for Intergovernmental and External Affairs

DEGS00424 Senior Policy Advisor to the Associate Deputy Secretary to the Associate Chief Information Officer for Operations

DEGS00425 Senior Policy Advisor to the Director, Nuclear Energy

DEGS00426 Associate Director to the Director, Office of Economic Impact and Diversity

DEGS00427 Policy Advisor to the Assistant Secretary for Environment, Safety and Health

DEGS00428 Policy Advisor to the Deputy Assistant Secretary for International Affairs

DEGS00431 Senior Policy Advisor to the Assistant Secretary of Energy (Environmental Management)

DEGS00433 Senior Advisor to the Executive Director, Secretary of Energy Advisory Board

DEGS00438 Special Assistant to the Principal Deputy Assistant Secretary for Fossil Energy

DEGS00439 Policy Advisor to the Principal Deputy Assistant Secretary for Fossil Energy

DEGS00440 Special Assistant to the Director, Office of Civilian Radioactive Waste Management

DEGS00441 Senior Advisor to the Assistant Secretary for Policy and International Affairs

DEGS00442 Special Assistant to the Assistant Secretary for Congressional and Intergovernmental Affairs

DEGS00443 Senior Policy Advisor to the Principal Deputy Assistant Secretary for Fossil Energy

DEGS00445 Technical Internet Advisor to the Associate Deputy Secretary of Energy

DEGS00446 Special Assistant to the Assistant Secretary for Congressional and Intergovernmental Affairs

DEGS00448 Special Assistant to the Assistant Secretary of Energy (Environmental Management)

DEGS00449 Staff Assistant to the Director, Office of Communications and Outreach

DEGS00450 Special Assistant for Communications to the Director, Office of Communications and Outreach

DEGS00453 Special Assistant to the Director, Office of Scheduling and Advance

DEGS00454 Advance Representative to the Director, Office of Scheduling and Advance

DEGS00455 Special Assistant for Travel and Advance to the White House Liaison

DEGS00456 Special Assistant to the Assistant Secretary for Environment, Safety and Health

DEGS00457 Special Assistant to the Assistant Secretary for Environment, Safety and Health

DEGS00458 Special Assistant to the Secretary, Department of Energy

DEGS00459 Associate Deputy Assistant Secretary to the Assistant Secretary for Congressional and Intergovernmental Affairs

DEGS00460 Special Assistant to the Assistant Secretary for Congressional and Intergovernmental Affairs

DEGS00461 Senior Advisor to the Deputy Secretary of Energy

DEGS00462 Special Assistant to the Assistant Secretary of Energy (Environmental Management)

DEGS00463 Scheduler to the Secretary to the Director, Office of Scheduling and Advance

DEGS00464 Special Assistant to the Director, Office of Electricity and Energy Assurance

DEGS00466 Special Assistant to the Deputy Administrator for Defense Nuclear Nonproliferation

DEGS00468 Special Assistant for Communications and Outreach to the Director, Office of Communications and Outreach

DEGS60121 Special Assistant to the Director, Office of Scheduling and Advance

DEGS60134 Special Assistant to the Assistant Secretary for Fossil Energy

DEGS60140 Senior Advisor to the Director, Nuclear Energy

DEGS60212 Senior Advisor, Communications to the Assistant Secretary (Conservation and Renewable Energy)

DEGS60222 Special Assistant to the Secretary, Department of Energy

DEGS60225 Senior Policy Advisor for Middle East Affairs to the Assistant Secretary for Policy and International Affairs

DEGS60233 Special Assistant to the Assistant Secretary for Policy and International Affairs

DEGS60253 Director of Intergovernmental Affairs to the Assistant Secretary for Congressional and Intergovernmental Affairs

DEGS60256 Intergovernmental Liaison Officer to the Assistant Secretary for Congressional and Intergovernmental Affairs

DEGS60265 Senior Advisor, Congressional and Intergovernmental Affairs to the Director, Office of Science

DEGS60276 Senior Policy Advisor to the Director, Office of Science

DEGS60278 Special Assistant to the Director, Office of Economic Impact and Diversity Federal Energy Regulatory Commission

DRGS51517 Policy Adviser to a Member of the Commission to the Member—Federal Energy Regulatory Commission

DRGS60001 Regulatory Policy Analyst to the Director, Markets, Tariffs, and Rates

DRGS60003 Confidential Assistant to the Member—Federal Energy Regulatory Commission

DRGS60004 Director, Public Affairs to the Deputy Director, External Affairs

DRGS60005 Intergovernmental Affairs Specialist to the Deputy Director, External Affairs

Section 213.3332 Small Business Administration

SBGS00540 Director of Small Business Administrations Center for Faith-Based and Community Initiatives to the Chief of Staff and Chief Operating Officer

SBGS00553 Associate Administrator for International Trade to the Associate Deputy Administrator for Capital Access

SBGS00555 Legislative Assistant to the Associate Administrator for Congressional and Legislative Affairs

SBGS00561 Deputy Director for Small Business Administrations Center for Faith-Based and Community Initiatives to the Director of Small Business Administrations Center for Faith-Based and Community Initiatives

SBGS00562 Special Assistant to the Associate Administrator for Field Operations

SBGS00565 Special Assistant to the Chief of Staff and Chief Operating Officer

SBGS00567 Policy Analyst to the Associate Administrator for Policy

SBGS00568 Speechwriter to the Associate Administrator for Communications and Public Liaison

SBGS00569 Special Assistant to the Chief of Staff and Chief Operating Officer

SBGS00570 Special Assistant to the Associate Administrator for International Trade

SBGS00572 Regional Administrator (Region 2) to the Associate Administrator for Field Operations

SBGS00573 Special Assistant to the Administrator

SBGS00574 Assistant Administrator for Field Operations to the Associate Administrator for Field Operations

SBGS00576 Deputy Associate Administrator for Communications and Public Liaison to the Associate Administrator for Communications and Public Liaison

SBGS00578 Regional Administrator (Region 1) to the Associate Administrator for Field Operations

SBGS00579 Special Assistant to the Associate Administrator for Field Operations

SBGS00580 Special Assistant to the Chief of Staff and Chief Operating Officer

SBGS00581 Press Secretary to the Associate Administrator for Communications and Public Liaison

SBGS00582 Senior Advisor to the Deputy Administrator

SBGS00583 Assistant Administrator to the Associate Administrator for Policy

SBGS00584 Policy Analyst to the Associate Administrator for Policy

SBGS00585 Director of Scheduling to the Chief of Staff and Chief Operating Officer

SBGS00586 Special Assistant to the Deputy Administrator

SBGS00587 Senior Advisor for Policy and Planning to the Associate Administrator for Policy

SBGS60010 Senior Advisor to the Chief Operating Officer and Chief Information Officer

SBGS60153 Deputy Associate Administrator for Intergovernmental Affairs to the Associate Administrator for Field Operations

SBGS60154 Deputy Director, External Affairs to the Director of External Affairs

SBGS60160 Senior Advisor to the Assistant Administrator for International Trade to the District Director

SBGS60170 Regional Administrator, Region VIII, Denver Colorado, to the Assistant Inspector General for Inspections and Evaluation

SBGS60171 Regional Administrator, Region VII, Kansas City, Missouri to the District Director

SBGS60173 Regional Administrator, Region VI, Dallas, Texas to the District Director

SBGS60174 Regional Administrator to the Associate Administrator for Field Operations

SBGS60175 Regional Administrator to the District Director, Office of Field Operations

SBGS60178 Regional Administrator, Region III, Philadelphia, Pennsylvania to the Associate Administrator for Field Operations

SBGS60188 Regional Administrator, Region IX, San Francisco to the Administrator

SBGS60189 Regional Administrator, Region X, Seattle Washington to the Associate Administrator for Field Operations

SBGS60356 Special Assistant to the Associate Administrator for Strategic Alliances

SBGS60533 Associate Administrator for Strategic Alliances to the Administrator

SBGS60535 Senior Advisor to the Associate Deputy Administrator for Entrepreneurial Development

SBGS60543 Associate Administrator for Policy to the Administrator

SBGS60546 Senior Advisor to the Ombudsman to the National Ombudsman

SBGS60558 Legislative Assistant to the Associate Administrator for Congressional and Legislative Affairs

SBGS60559 Assistant Administrator for Congressional and Legislative Affairs to the Associate Administrator for Congressional and Legislative Affairs

Section 213.3333 Federal Deposit Insurance Corporation

FDOT00003 General Counsel to the Chairman of the Board of Directors (Director)

FDOT00010 Chief of Staff to the Chairman of the Board of Directors (Director)

Section 213.3334 Federal Trade Commission

FTGS60001 Director, Office of Public Affairs to the Chairman

FTGS60002 Congressional Liaison Specialist to the Director, Office of Congressional Relations

FTGS60006 Congressional Liaison Specialist to the Chairman

FTGS60026 Confidential Assistant to a Commissioner

FTGS60027 Confidential Assistant to a Commissioner

Section 213.3337 General Services Administration

GSGS00063 Director of Marketing to the Deputy Associate Administrator for Communications

GSGS00084 Special Assistant to the Regional Administrator, Region VI Kansas City

GSGS00087 Special Assistant to the Regional Administrator, (Region IX-San Francisco)

GSGS00099 Senior Advisor to the Regional Administrator, Region 3, Philadelphia, Pennsylvania

GSGS00122 Congressional Relations Officer to the Associate Administrator for Congressional and Intergovernmental Affairs

GSGS00130 Senior Advisor to the Regional Administrator, Region 7, Fort Worth, Texas

GSGS00132 Special Assistant to the Regional Administrator to the Regional Administrator, Region 10, Auburn, Washington

GSGS00133 Congressional Relations Officer to the Associate Administrator for Congressional and Intergovernmental Affairs

GSGS00150 Congressional Relations Officer to the Associate Administrator for Congressional and Intergovernmental Affairs

GSGS00156 Confidential Assistant to the Chief of Staff

GSGS00157 Chief of Staff to the Commissioner, Public Buildings Service

GSGS00158 Confidential Assistant to the Associate Administrator for Small Business Utilization

GSGS00159 Deputy Director for Communications to the Deputy Associate Administrator for Communications

GSGS00160 Congressional Relations Assistant to the Associate Administrator for Congressional and Intergovernmental Affairs

GSGS00161 Public Affairs Assistant to the Deputy Associate Administrator for Communications

GSGS00162 Special Assistant to the Deputy Associate Administrator for Communications

GSGS00163 Confidential Assistant to the Associate Administrator for Performance Improvement

GSGS00164 Senior Advisor to the Commissioner, Federal Technology Service

GSGS00165 Special Assistant to the Chief Acquisition Officer

GSGS01317 Associate Administrator for Performance Improvement to the Administrator

GSGS60069 Events Management Specialist to the Deputy Director for Communications

GSGS60079 Senior Advisor to the Regional Administrator, Region 2, New York

GSGS60082 Senior Advisor to the Regional Administrator, Regional 4, Atlanta, Georgia

GSGS60095 White House Liaison to the Chief of Staff

GSGS60100 Deputy Associate Administrator for Congressional and Intergovernmental Affairs to the Associate Administrator for Congressional and Intergovernmental Affairs

GSGS60103 Confidential Assistant to the Administrator

GSGS60119 Senior Advisor to the Deputy Regional Administrator

GSGS60127 Associate Administrator for Small Business Utilization to the Administrator

Section 213.3338 Federal Communications Commission

FCGS03051 Deputy Director, Office of Media Relations to the Chief of Staff

FCGS60005 Special Assistant to the Director, Office of Legislative Affairs

Section 213.3339 United States International Trade Commission

TCGS00007 Staff Assistant to a Commissioner

TCGS00012 Confidential Assistant to a Commissioner

TCGS00033 Staff Assistant to a Commissioner

TCGS60015 Executive Assistant to the Vice Chairman

TCGS60018 Staff Assistant (Legal) to a Commissioner

TCGS60019 Senior Economist to a Commissioner

TCGS60036 Executive Assistant to the Chairman

TCGS60101 Executive Assistant to the Vice Chairman

Section 213.3340 National Archives and Records Administration

NQGS60003 Presidential Diarist to the Archivist of the United States

Section 213.3342 Export-Import Bank

EBGS60054 Special Assistant to the Vice President—Operations

EBSL00006 General Counsel to the President and Chairman

Section 213.3343 Farm Credit Administration

FLOT00054 Chief of Staff to the Chairman, Farm Credit Administration Board

FLOT00055 Legislative Affairs Officer to the Chairman, Farm Credit Administration Board

FLOT00056 Special Assistant to the Member, Farm Credit Administration Board

FLOT00080 Executive Assistant to the Chairman, Farm Credit Administration Board

FLOT60013 Executive Assistant to the Member, Farm Credit Administration Board

Section 213.3344 Occupational Safety and Health Review Commission

SHGS00002 Confidential Assistant to a Commission Member (Chairman)

SHGS00003 Confidential Assistant to a Commission Member

SHGS60008 Counsel to a Commission Member

Section 213.3346 Selective Service System

SSGS00001 Public Affairs Specialist to the Director

SSGS03359 Executive Officer/Chief of Staff to the Director, Selective Service System

SSGS03363 Deputy Director to the Director, Selective Service System

Section 213.3348 National Aeronautics and Space Administration

NNGS00021 Public Affairs Specialist to the Senior Public Affairs Advisor

NNGS00022 Program Specialist to the Deputy Assistant Administrator for External Relations

NNGS00024 Editor to the Deputy Assistant Administrator for Public Affairs

NNGS00042 Project Liaison to the Chief, Financial Officer

NNGS00044 Legislative Affairs Specialist to the Assistant Administrator for Legislative Affairs

NNGS00141 Executive Assistant to the Chief, Financial Officer

NNGS00155 Executive Assistant to the Chief of Strategic Communications

NNGS00157 Special Assistant (Correspondence) to the Administrator

NNGS01420 Congressional Relations Specialist to the Assistant Administrator for Legislative Affairs

NNGS01430 Executive Assistant to the General Counsel

NNGS01440 Strategic Communication Specialist to the Assistant Administrator for Public Affairs

NNGS02317 Special Assistant to the Inspector General

NNGS30115 White House Liaison to the Administrator

NNGS60020 Writer-Editor to the Assistant Administrator for Public Affairs

Section 213.3351 Federal Mine Safety and Health Review Commission

FRGS60024 Confidential Assistant to the Chairman

Section 213.3353 Merit Systems Protection Board

MPGS00002 Confidential Assistant to a Member

MPGS60010 Confidential Assistant to the Chairman

Section 213.3355 Social Security Administration

SZGS00011 Special Assistant to the Deputy Commissioner

SZGS00016 Special Assistant to the Chief of Staff

SZGS00017 Associate Commissioner for External Affairs to the Deputy Commissioner for Communications

SZGS60008 Special Assistant to the Chief of Staff

SZGS60012 Executive Editor to the Associate Commissioner for Retirement Policy

Section 213.3356 Commission on Civil Rights

CCGS60013 Special Assistant to a Commissioner

CCGS60029 Special Assistant to a Commissioner

CCGS60033 Special Assistant to a Commissioner

Section 213.3357 National Credit Union Administration

CUOT00030 Associate Director of External Affairs to the Chairman

CUOT01158 Director, Congressional and Governmental Affairs to the Chairman

CUOT01191 Senior Advisor and Chief of Staff to the Chairman

CUOT01192 Executive Assistant to a Member

CUOT60026 Special Assistant to the Chairman and Director of External Affairs

Section 213.3360 Consumer Product Safety Commission

PSGS00070 Special Assistant (Legal) to the Chairman, Consumer Product Safety Commission

PSGS60006 Special Assistant (Legal) to the Chairman, Consumer Product Safety Commission

PSGS60007 Director, Office of Congressional Relations to the Chairman, Consumer Product Safety Commission

PSGS60008 Program Assistant to the Chairman, Consumer Product Safety Commission

PSGS60010 Executive Assistant to a Commissioner

PSGS60014 General Counsel to the Chairman, Consumer Product Safety Commission

PSGS60061 Executive Assistant to a Commissioner

PSGS60062 Special Assistant (Legal) to a Commissioner

PSGS60063 Special Assistant (Legal) to a Commissioner

PSGS60066 Supervisory Public Affairs Specialist to the Executive Director

Section 213.3365 Chemical Safety and Hazard Investigation Board

FJGS60001 Special Assistant to the Chief Operating Officer

Section 213.3367 Federal Maritime Commission

MCGS60003 Counsel to a Member

MCGS60006 Counsel to a Member

MCGS60042 Counsel to a Member

Section 213.3370 Millennium Challenge Corporation

CMOT00001 Executive Assistant to the Chief Executive Officer

Section 213.3373 Trade and Development Agency

TDGS00004 Public Affairs Specialist to the Director

Section 213.3376 Appalachian Regional Commission

APGS00004 Confidential Policy Advisor to the Federal Co-Chairman

APGS00005 Policy Advisor to the Federal Co-Chairman

Section 213.3379 Commodity Futures Trading Commission

CTGS60001 Administrative Assistant to the Chief of Staff

CTGS60003 Administrative Assistant to a Commissioner

CTGS60004 Administrative Assistant to a Commissioner

CTGS60012 Special Assistant to a Commissioner

CTGS60014 Special Assistant to a Commissioner

CTGS60477 Attorney-Advisor (General) to a Commissioner

CTOT00033 Director, Office of External Affairs to the Chairperson

Section 213.3382 National Endowment for the Arts

NAGS00004 Director of Development to the Senior Deputy Chairman

NAGS00025 General Counsel to the Chairman, National Endowment for the Arts

NAGS00062 Counselor to the Chairman, Chairman National Endowment for the Arts

NAGS60049 Deputy Congressional Liaison to the Director, Office of Government Affairs

NAGS60077 Director of Communications to the Chairman, National Endowment for the Arts

NASL00001 Executive Director, President's Committee on the Arts and Humanities to the Chairman, National Endowment for the Arts

Section 213.3384 Department of Housing and Urban Development

DUGS00021 Staff Assistant to the Secretary, Housing and Urban Development

DUGS00032 Deputy Assistant Secretary for Congressional Relations to the Assistant Secretary for Public and Indian Housing

DUGS00041 Advance Coordinator to the Assistant Secretary for Administration, Chief Human Capital Officer

DUGS00044 Special Assistant to the Deputy Secretary, Housing and Urban Development

DUGS00170 Staff Assistant to the Assistant Secretary for Public and Indian Housing

DUGS60037 Staff Assistant to the Assistant Secretary for Congressional and Intergovernmental Relations

DUGS60114 Staff Assistant to the Assistant Secretary for Housing, Federal Housing Commissioner

DUGS60120 Media Outreach Specialist to the Assistant Secretary for Public Affairs

DUGS60138 Special Assistant to the Assistant Secretary for Community Planning and Development

DUGS60179 Staff Assistant to the Director of Executive Scheduling

DUGS60195 Staff Assistant to the Deputy Assistant Secretary for Economic Affairs

DUGS60206 Intergovernmental Relations Assistant to the Assistant Secretary for Congressional and Intergovernmental Relations

DUGS60211 Staff Assistant to the Director of Executive Scheduling

DUGS60212 Staff Assistant to the Assistant Secretary for Community Planning and Development

DUGS60213 Staff Assistant to the Assistant Secretary for Policy Development and Research

DUGS60216 Deputy Assistant Secretary for Special Needs to the Assistant Deputy Secretary for Field Policy and Management

DUGS60224 Regional Director, Seattle, Washington, to the Deputy Secretary, Housing and Urban Development

DUGS60238 Special Assistant to the Regional Director

DUGS60255 Special Assistant to the Assistant Secretary for Policy Development and Research

DUGS60260 Staff Assistant to the Deputy Assistant Secretary for Public Housing and Voucher Programs

DUGS60263 Special Assistant to the Assistant Secretary for Public Affairs

DUGS60272 Deputy Assistant Secretary for Economic Affairs to the Regional Director

DUGS60276 Staff Assistant to the Assistant Secretary for Housing, Federal Housing Commissioner

DUGS60279 Associate Deputy Assistant Secretary for Fair Housing and Equal Opportunity to the Assistant Secretary for Fair Housing and Equal Opportunity

DUGS60281 Special Projects Officer to the Assistant Secretary for Housing, Federal Housing Commissioner

DUGS60288 Congressional Relations Assistant to the Assistant Secretary for Congressional and Intergovernmental Relations

DUGS60317 Special Assistant to the Regional Director, Midwest (Chicago)

DUGS60343 Special Assistant to the Regional Director, Greensboro, North Carolina

DUGS60344 Staff Assistant to the Assistant Secretary for Public Affairs

DUGS60361 Regional Director, Denver Colorado, to the Assistant to the Secretary/White House Liaison

DUGS60366 Deputy Assistant Secretary for Regulatory Affairs and Manufactured Housing to the Deputy Assistant Secretary for Regulatory Affairs and Manufactured Housing

DUGS60387 Scheduling Coordinator to the Special Assistant for Office Operations

DUGS60391 Special Assistant to the Regional Director, Mid Atlantic, Philadelphia

DUGS60396 Staff Assistant to the Special Assistant for Office Operations

DUGS60423 Staff Assistant to the Assistant Secretary for Administration, Chief Human Capital Officer

DUGS60431 Regional Director, Kansas City, Kansas, to the Deputy Assistant Secretary for Congressional and Intergovernmental Relations

DUGS60458 Legislative Assistant to the Deputy Assistant Secretary

DUGS60461 Staff Assistant to the Director of Executive Scheduling

DUGS60462 Special Assistant to the Assistant Secretary for Community Planning and Development

DUGS60464 Special Projects Coordinator to the Regional Director (Southeast) Atlanta

DUGS60470 Staff Assistant to the General Counsel

DUGS60482 Deputy Director, Center for Faith Based and Community Initiatives to the Director, Center for Faith Based and Community Initiatives

DUGS60489 Special Assistant to the Assistant Secretary for Public and Indian Housing

DUGS60505 Deputy Assistant Secretary for Intergovernmental Relations to the Assistant Secretary for Congressional and Intergovernmental Relations

DUGS60517 Regional Director to the Assistant Deputy Secretary for Field Policy and Management

DUGS60522 Deputy Assistant Secretary for Grant Programs to the Secretary, Housing and Urban Development

DUGS60525 Deputy White House Liaison to the Secretary, Housing and Urban Development

DUGS60542 Assistant to the Secretary and White House Liaison to the Secretary, Housing and Urban Development

DUGS60543 Staff Assistant to the Assistant Secretary for Administration, Chief Human Capital Officer

DUGS60546 Special Assistant to the Deputy Secretary, Housing and Urban Development

DUGS60561 Deputy Assistant Secretary for Public Affairs to the Assistant Secretary for Public Affairs

DUGS60571 Deputy Assistant for Policy Development and Research to the Assistant Secretary for Policy Development and Research

DUGS60583 Director, Center for Faith Based and Community Initiatives to the Assistant Secretary for Administration, Chief Human Capital Officer

DUGS60595 Legislative Specialist to the Assistant Secretary for Congressional and Intergovernmental Relations

DUGS60601 Staff Assistant to the Assistant Secretary for Congressional and Intergovernmental Relations

DUGS60610 Staff Assistant to the President, Government National Mortgage Association

DUGS60620 Staff Assistant to the Assistant Secretary for Administration, Chief Human Capital Officer

Section 213.3388 Presidents Commission on White House Fellowships

WHGS00013 Education Director to the Director, President's Commission on White House Fellowships

WHGS00015 Staff Assistant (Office Automation) to the Director, President's Commission on White House Fellowships

WHGS00016 Deputy Director, President's Commission on White House Fellowships to the Director, President's Commission on White House Fellowships

Section 213.3382 National Endowment for the Humanities

NHGS60065 Special Assistant to the Chairman

NHGS60075 Director of Communications to the Deputy Chairman

NHGS60076 Director, We the People Office, to the Deputy Chairman

Section 213.3389 National Mediation Board

NMGS60053 Confidential Assistant to a Member

NMGS60054 Confidential Assistant to a Member

NMGS60056 Confidential Assistant to the Chairman

Section 213.3391 Office of Personnel Management

PMGS00025 Special Assistant to the Director, Office of Communications and Public Liaison

PMGS00033 Chief, Office of Senate Affairs to the Director, Office of Congressional Relations

PMGS00034 Scheduler and Briefing Operations Coordinator to the Chief of Staff

PMGS00036 Special Assistant to the Director, Office of Communications and Public Liaison

PMGS00037 Chief, Office of House Affairs to the Director, Office of Congressional Relations

PMGS00040 Chief of Administration and Confidential Assistant to the Director, Office of Congressional Relations

PMGS00041 Special Assistant (Senior Speech Writer) to the Director, Office of Communications and Public Liaison

PMGS00043 White House Liaison to the Chief of Staff

PMGS00044 Executive Director, Chief Human Capital Officers' Council to the Director

PMGS00047 Special Assistant to the Deputy Director

PMGS00049 Legislative Assistant to the Chief, Office of House Affairs

PMGS00052 Special Counsel to the General Counsel

PMGS60010 Special Initiatives Coordinator to the Director, Office of Communications and Public Liaison

PMGS60013 Special Assistant to the Director, Office of Communications and Public Liaison

PMGS60017 Special Counselor to the General Counsel

PMGS60018 Special Assistant to the Director, Office of Communications and Public Liaison

PMGS60022 Deputy Director, Office of Communications to the Director, Office of Communications and Public Liaison

Section 213.3392 Federal Labor Relations Authority

FAGS60022 Executive Assistant to the Chairman

Section 213.3393 Pension Benefit Guaranty Corporation

BGSL00039 Executive Director to the Chairman

BGSL00053 Director, Communications and Public Affairs Department to the Executive Director

Section 213.3394 Department of Transportation

DTGS60003 Special Assistant to the Secretary and Deputy Director for Scheduling and Advance to the Secretary

DTGS60017 Assistant to the Secretary for Policy to the Secretary

DTGS60054 Associate Director for Governmental Affairs to the Deputy Assistant Secretary for Governmental Affairs

DTGS60055 Associate Director for Governmental Affairs to the Assistant Secretary for Governmental Affairs

DTGS60069 Director, Office of Communications and Senior Policy Advisor to the Administrator

DTGS60129 Counselor to the General Counsel

DTGS60147 Special Assistant to the Secretary and Director of Public Affairs

DTGS60159 Special Assistant to the Associate Administrator for Policy

DTGS60173 Director of Congressional Affairs to the Administrator, Office of Congressional Affairs

DTGS60192 Special Assistant to the Secretary and Director of Public Affairs

DTGS60195 Special Assistant for Public Affairs to the Administrator

DTGS60202 Special Assistant to the Administrator

DTGS60229 Senior Advisor for Maritime Policy to the Administrator

DTGS60237 Deputy Director for Communications to the Assistant to the Secretary and Director of Public Affairs

DTGS60258 Associate Director for Governmental Affairs to the Assistant Secretary for Governmental Affairs

DTGS60268 Speechwriter to the Associate Director for Speechwriting

DTGS60274 Special Assistant to the Assistant to the Secretary and Director of Public Affairs

DTGS60277 Staff Assistant to the Administrator

DTGS60279 Associate Director for Speechwriting to the Assistant to the Secretary and Director of Public Affairs

DTGS60285 Special Assistant to the Administrator

DTGS60292 Associate Director for Governmental Affairs to the Deputy Assistant Secretary for Governmental Affairs

DTGS60295 Executive Assistant to the Associate Deputy Secretary

DTGS60301 Associate Director for Governmental Affairs to the Deputy Assistant Secretary for Governmental Affairs

DTGS60313 Director of External Affairs to the Administrator

DTGS60316 Special Assistant to the Assistant Secretary for Aviation and International Affairs

DTGS60317 Deputy Assistant Administrator for Government and Industry Affairs to the Assistant Administrator for Government and Industry Affairs

DTGS60324 Director for Scheduling and Advance to the Chief of Staff

DTGS60338 Special Assistant to the Associate Administrator for Policy

DTGS60341 Associate Director for Governmental Affairs to the Deputy Assistant Secretary for Governmental Affairs

DTGS60342 Special Assistant for Scheduling and Advance to the Director for Scheduling and Advance

DTGS60351 Counselor to the Deputy Secretary

DTGS60355 Director, Drug Enforcement and Program Compliance to the Chief of Staff

DTGS60357 Special Assistant for Scheduling and Advance to the Director for Scheduling and Advance

DTGS60363 Director of Policy and Program Support to the Administrator

DTGS60369 Deputy Assistant Secretary for Governmental Affairs to the Assistant Secretary for Governmental Affairs

DTGS60371 Deputy Assistant Secretary for Governmental Affairs to the Assistant Secretary for Governmental Affairs

DTGS60372 Deputy Assistant Secretary for Governmental Affairs to the Assistant Secretary for Governmental Affairs

DTGS60373 Special Assistant to the Administrator for Intergovernmental Affairs to the Administrator

DTGS60375 White House Liaison to the Chief of Staff

DTGS60377 Director of Congressional, International, and Public Affairs to the Deputy Administrator

DTGS60460 Director of Public Affairs to the Administrator

Section 213.3396 National Transportation Safety Board

BGS60002 Special Assistant to the Chairman

TBGS60025 Special Assistant to the Vice Chairman

TBGS60033 Assistant to the Director, National Transportation Safety Board Academy for Special Projects to the Chairman

TBGS60104 Special Assistant to a Member

TBGS60105 Confidential Assistant to the Vice Chairman

TBGS60106 Confidential Assistant to a Member

Section 213.3397 Federal Housing Finance Board

FBOT00003 Special Assistant for External Affairs to the Chairman

FBOT00005 Staff Assistant to the Chairman

FBOT00010 Special Assistant to the Chairman

FBOT00011 Special Assistant to the Chairman

FBOT60006 Special Assistant to the Board Director

FBOT60007 Special Assistant to the Board Director

FBOT60009 Assistant to the Board Director

Authority: 5 U.S.C. 3301 and 3302; E.O.10577, 3 CFR 1954-1958 Comp., p. 18.

Office of Personnel Management.
Linda M. Springer,
Director.

[FR Doc. 05-22067 Filed 11-7-05; 8:45 am]

BILLING CODE 6325-39-P